DEPARTMENT OF TRANSPORTATION

Federal Aviation Administration

14 CFR Parts 43, 61, 91, and 141

[Docket No. FAA-2007-29015; Notice No. 08-03]

RIN 2120-AJ10

Certification of Aircraft and Airmen for the Operation of Light-Sport Aircraft; Modifications to Rules for Sport Pilots and Flight Instructors With a Sport Pilot Rating

AGENCY: Federal Aviation Administration (FAA), DOT.

ACTION: Notice of proposed rulemaking (NPRM).

SUMMARY: The FAA proposes to amend its rules for sport pilots and flight instructors with a sport pilot rating. The FAA believes these changes are necessary to address airman certification issues that have arisen since regulations for the operation of light-sport aircraft were implemented. These changes would align the certification requirements for sport pilots and flight instructors with a sport pilot rating with those requirements currently applicable to other airmen certificates.

DATES: Send your comments on or before August 13, 2008.

ADDRESSES: You may send comments identified by docket number FAA 2007-29015 using any of the following methods:

• Federal eRulemaking Portal: Go to http://www.regulations.gov and follow the online instructions for sending your comments electronically.

• Mail: Send comments to the Docket Management Facility; U.S. Department of Transportation, 1200 New Jersey Avenue, SE., West Building Ground Floor, Room W12-140, Washington, DC 20590-0001.

• Hand Delivery or Courier: Bring comments to the Docket Management Facility in Room W12-140 of the West Building Ground Floor at 1200 New Jersey Avenue, SE., Washington, DC, between 9 a.m. and 5 p.m., Monday through Friday, except Federal holidays.

• Fax: Fax comments to the Docket Management Facility at 202-493-2251.

For more information on the rulemaking process, see the SUPPLEMENTARY INFORMATION section of this document.

Privacy: We will post all comments we receive, without change, to http://www.regulations.gov, including any personal information you provide. Using the search function of our docket Web site, anyone can find and read the electronic form of all comments received into any of our dockets, including the name of the individual sending the comment (or signing the comment for an association, business, labor union, etc.). You may review DOT's complete Privacy Act Statement in the Federal Register published on April 11, 2000 (65 FR 19477-78) or you may visit http://DocketsInfo.dot.gov.

Docket: To read background documents or comments received, go to http://www.regulations.gov at any time and follow the online instructions for accessing the docket. Or, go to the Docket Management Facility in Room W12-140 of the West Building Ground Floor at 1200 New Jersey Avenue, SE., Washington, DC, between 9 a.m. and 5 p.m., Monday through Friday, except Federal holidays.

FOR FURTHER INFORMATION CONTACT: For technical questions concerning this proposed rule, contact Larry L. Buchanan, Light-Sport Aviation Branch, AFS-610, Regulatory Support Division, Flight Standards Service, Federal Aviation Administration, 6500 South MacArthur Blvd., Oklahoma City, OK 73169; telephone (405) 954-6400; Mailing address: Light-Sport Aviation Branch, AFS-610; P.O. Box 25082; Oklahoma City, OK 73125.

For legal questions concerning this proposed rule, contact Paul Greer, Regulations Division, AGC-200, Federal Aviation Administration, 800 Independence Ave., SW., Washington, DC 20591; telephone (202) 267-3073.

SUPPLEMENTARY INFORMATION: Later in this preamble under “VI. Additional Information,” we discuss how you can comment on this proposal and how we will handle your comments. Included in this discussion is related information about the docket, privacy, and the handling of proprietary or confidential business information. We also discuss how you can get a copy of this proposal and related rulemaking documents.

Authority for This Rulemaking

The FAA's authority to issue rules on aviation safety is found in Title 49 of the United States Code. Subtitle I, Section 106 describes the authority of the FAA Administrator, including the authority to issue, rescind, and revise regulations. Subtitle VII, Aviation Programs, describes in more detail the scope of the agency's authority.

This rulemaking is promulgated under the authority described in Subtitle VII, Part A, Chapter 447—Safety Regulation. Under section 44701, the FAA is charged with promoting safe flight of civil aircraft in air commerce by prescribing regulations necessary for safety. Under section 44703, the FAA issues an airman certificate to an individual when we find, after investigation, that the individual is qualified for, and physically able to perform the duties related to, the position authorized by the certificate. In this NPRM, the FAA is proposing to amend the training, qualification, certification, and operating requirements for sport pilots and flight instructors with a sport pilot rating.

These changes are intended to ensure that these airmen have the training and qualifications necessary to enable them to operate light-sport aircraft safely. For this reason, the proposed changes are within the scope of the FAA's authority and are a reasonable and necessary exercise of our statutory obligations.

Guide to Terms and Acronyms Frequently Used in This Document

AGL—Above Ground Level

ATC—Air Traffic Control

CAS—Calibrated Airspeed

DPE—Designated Pilot Examiner

MSL—Mean Sea Level

NDPER—National Designated Pilot Examiner Registry

PTS—Practical Test Standards

VFR—Visual Flight Rules

VH—Maximum airspeed in level flight with maximum continuous power

Table of Contents

I. Background

II. Discussion of the Proposed Regulatory Requirements

A. Overview

B. Discussion of Specific Proposals

1. Replace sport pilot privileges with aircraft category and class ratings on all pilot certificates

2. Replace sport pilot flight instructor privileges with aircraft category ratings on all flight instructor certificates

3. Remove current provisions for the conduct of proficiency checks by flight instructors and include provisions for the issuance of category and class ratings by designated pilot examiners

4. Place all requirements for flight instructors under a single subpart (subpart H) of part 61

5. Require 1 hour of flight training on the control and maneuvering of an airplane solely by reference to instruments for student pilots seeking a sport pilot certificate to operate an airplane with a maximum airspeed in level flight with maximum continuous power (VH) greater than 87 knots calibrated airspeed (CAS) and sport pilots operating airplanes with a VH greater than 87 knots CAS

6. Remove the requirement for persons exercising sport pilot privileges and flight instructors with a sport pilot rating to carry their logbooks while in flight

7. Remove the requirement that persons exercising sport pilot privileges have an aircraft make-and-model endorsement to operate a specific set of aircraft while adding provisions for endorsements for the operation of powered parachutes with elliptical wings and aircraft with a VH less than or equal to 87 knots CAS

8. Remove the requirement for all flight instructors to log at least 5 hours of flight time in a make and model of light-sport aircraft before providing training in any aircraft from the same set of aircraft in which that training is given

9. Permit persons exercising sport pilot privileges and the privileges of a student pilot seeking a sport pilot certificate to fly up to an altitude of not more than 10,000 feet mean sea level (MSL) or 2,000 feet above ground level (AGL), whichever is higher

10. Permit private pilots to receive compensation for production flight testing of powered parachutes and weight-shift-control aircraft intended for certification in the light-sport category under § 21.190

11. Revise student sport pilot solo cross-country navigation and communication flight training requirements

12. Clarify cross-country distance requirements for private pilots seeking to operate weight-shift-control aircraft

13. Revise aeronautical experience requirements at towered airports for persons seeking to operate a powered parachute or weight-shift-control aircraft as a private pilot

14. Remove the requirement for pilots with only a powered parachute or a weight-shift-control aircraft rating to take a knowledge test for an additional rating at the same certificate level

15. Revise the amount of hours of flight training an applicant for a sport pilot certificate must log within 60 days prior to taking the practical test

16. Remove expired ultralight transition provisions and limit the use of aeronautical experience obtained in ultralight vehicles

17. Add a requirement for student pilots to obtain endorsements identical to those proposed for sport pilots in §§ 61.324 and 61.327

18. Clarify that an authorized instructor must be in a powered parachute when providing flight instruction to a student pilot

19. Remove the requirement for aircraft certificated as experimental aircraft in the light-sport category to comply with the applicable maintenance and preventive maintenance requirements of part 43 when those aircraft have been previously issued a special airworthiness certificate in the light-sport category

20. Require aircraft owners or operators to retain a record of the current status of applicable safety directives for special light-sport aircraft

21. Provide for the use of aircraft with a special airworthiness certificate in the light-sport category in training courses approved under part 141

22. Revise the minimum safe-altitude requirements for powered parachutes and weight-shift-control aircraft

III. Paperwork Reduction Act

IV. International Compatibility

V. Regulatory Notices and Analyses

A. Economic Assessment

B. Regulatory Flexibility Determination

C. International Trade Impact Assessment

D. Unfunded Mandates Assessment

E. Executive Order 13132, Federalism

F. Environmental Analysis

G. Regulations That Significantly Affect Energy Supply, Distribution, or Use

VI. Additional Information

I. Background

On July 27, 2004, the FAA issued the “Certification of Aircraft and Airmen for the Operation of Light-Sport Aircraft” final rule (69 FR 44772). That rule established the certification and qualification requirements for sport pilots and flight instructors with a sport pilot rating in part 61. The rule also established requirements for the certification, operation, maintenance, and manufacture of light-sport aircraft. Since the adoption of that rule, the FAA has been evaluating the process for certificating pilots and flight instructors conducting operations in light-sport aircraft and has determined that changes to these certification requirements are necessary to align the certification requirements for sport pilots and flight instructors with a sport pilot rating with those requirements currently applicable to other airmen certificates and to better serve the sport pilot and light-sport aircraft community. Through experience gained by the FAA inspector workforce and information provided by organizations and individual aircraft owners in the light-sport community, the agency believes it has a critical understanding of where the 2004 rule may not adequately reflect the needs of the flying community or may not provide sufficient regulatory oversight.

II. Discussion of the Proposed Regulatory Requirements

II. A. Overview

As stated in the preamble of the 2004 final rule, the FAA adopted the regulations “to allow individuals to experience sport and recreational aviation in a manner that is safe for the intended operations, but not overly burdensome” (69 FR 44774; July 27, 2004). The FAA remains committed to this philosophy.

Since the implementation of the 2004 final rule, the FAA's Light-Sport Aviation Branch inspector workforce has had informal discussions with organizations and individuals in the light-sport community about the rule's effectiveness. As a result of these discussions, and through experience gained in administering the 2004 final rule, the FAA has reviewed the current regulations and believes that some provisions are unnecessary or redundant and should be modified. The agency has identified a number of areas where it believes it can provide relief to the light-sport community without compromising safety. These include—

• Removing all requirements applicable to “sets of aircraft,” to include all requirements for specific endorsements to operate an aircraft within a particular set of aircraft;

• Removing the requirement for all sport pilot flight instructors to log at least 5 hours of flight time in a particular make and model of light-sport aircraft before providing training in the same set of aircraft;

• Eliminating the current requirement for flight training at an airport with an operating control tower to be in a powered parachute or weight-shift-control aircraft for those persons seeking privileges to operate those aircraft;

• Eliminating the requirement for sport pilots to be trained in the use of radios for VFR navigation and communication when the aircraft intended to be used by the pilot is not equipped with such instruments;

• Lowering of the amount of hours of flight training that an applicant for a sport pilot certificate must log within 60 days prior to taking the practical test;

• Eliminating provisions that would require a person exercising sport pilot privileges and flight instructors with a sport rating to carry his or her logbook while in flight;

• Permitting a person exercising sport pilot privileges to fly above 10,000 feet MSL when that altitude is less than 2,000 feet above the surface and proposing less restrictive requirements for the operation of powered parachutes and weight-shift-control aircraft in other than congested areas;

• Permitting private pilots to receive compensation for production flight testing of powered parachutes or weight-shift-control aircraft;

• Removing the current requirement for experimental aircraft certificated in the light-sport category to comply with the applicable maintenance and preventive maintenance requirements of part 43 when those aircraft have been previously issued a special airworthiness certificate in the light-sport category; and

• Providing for the use of aircraft with a special airworthiness certificate in the light-sport category in training courses approved under part 141.

In addition, the FAA's inspector workforce has observed an apparent lack of standardization in the administration of practical tests leading to the issuance of category and class privileges for sport pilot applicants. This lack of standardization has resulted in the FAA's experiencing difficulties in obtaining documentation that those practical tests were successfully completed. When documentation that a person has been awarded privileges to operate a specific category and class of aircraft is not on file with the FAA, it may be difficult for that person to demonstrate that those privileges have been awarded, especially if that person's logbook is lost, destroyed, or unavailable. The agency, therefore, is proposing to—

• Replace sport pilot privileges with aircraft category and class ratings on all pilot certificates;

• Replace flight instructor privileges with aircraft category ratings on all flight instructor certificates; and

• Remove current provisions for the conduct of proficiency checks by flight instructors and include provisions for the issuance of category and class ratings by designated pilot examiners.

By placing privileges to operate a category and class of aircraft as a rating on a person's sport pilot certificate, the FAA would provide sport pilots with enhanced recognition of their skills and better integrate them into the wider aviation community. This action may not only facilitate further growth in the light-sport industry but may also lead to broader international recognition of these certificates.

Lastly, after review of the current regulations, the FAA is proposing the following changes, which the agency believes are necessary to enhance safety—

• Require one hour of flight training on the control and maneuvering of an aircraft solely by reference to instruments for sport pilots operating airplanes with a VH greater than 87 knots CAS and also for student pilots seeking a sport pilot certificate to operate an airplane with a VH greater than 87 knots CAS because operators of these aircraft are more likely to encounter instrument meteorological conditions than operators of other categories of aircraft;

• Require a specific endorsement for sport pilots and student pilots seeking a sport pilot certificate for the operation of a powered parachute with an elliptical wing and for an aircraft with a VH less than or equal to 87 knots CAS in order to retain current safety requirements that would be deleted if the FAA adopts the proposal to remove the requirement that persons exercising sport pilot privileges have an aircraft make-and-model endorsement to operate a specific set of aircraft; and

• Require that aircraft owners/operators retain a record of the current status of applicable safety directives for special light-sport aircraft, which, upon further consideration, the FAA believes would close a gap in the 2004 rule.

These and other proposed amendments are discussed in further detail below.

The FAA notes that some sections the FAA is proposing to be amended in this NPRM were also proposed to be amended in a separate rulemaking action, “Pilot, Flight Instructor, and Pilot School Certification,” published in the Federal Register on February 7, 2007. That February 7, 2007, NPRM, however, did not address sport pilot issues. The specific sections proposed to be revised by this NPRM may therefore be further revised in the final rule if the amendments proposed by the February 7, 2007 rulemaking action become final prior to the proposals contained in this NPRM.

II.B. Discussion of Specific Proposals

This proposed rule would—

1. Replace sport pilot privileges with aircraft category and class ratings on all pilot certificates.

2. Replace sport pilot flight instructor privileges with aircraft category ratings on all flight instructor certificates.

3. Remove current provisions for the conduct of proficiency checks by flight instructors and include provisions for the issuance of category and class ratings by designated pilot examiners.

4. Place all requirements for flight instructors under a single subpart (subpart H) of part 61.

5. Require 1 hour of flight training on the control and maneuvering of an airplane solely by reference to instruments for student pilots seeking a sport pilot certificate to operate an airplane with a VH greater than 87 knots CAS and sport pilots operating airplanes with a VH greater than 87 knots CAS.

6. Remove the requirement for persons exercising sport pilot privileges and flight instructors with a sport pilot rating to carry their logbooks while in flight.

7. Remove the requirement that persons exercising sport pilot privileges have an aircraft make-and-model endorsement to operate a specific set of aircraft while adding specific regulatory provisions for endorsements for the operation of powered parachutes with elliptical wings and aircraft with a VH less than or equal to 87 knots CAS.

8. Remove the requirement for all flight instructors to log at least 5 hours of flight time in a make and model of light-sport aircraft before providing training in any aircraft from the same set of aircraft in which that training is given.

9. Permit persons exercising sport pilot privileges and the privileges of a student pilot seeking a sport pilot certificate to fly up to an altitude of not more than 10,000 feet mean sea level (MSL) or 2,000 feet above ground level (AGL), whichever is higher.

10. Permit private pilots to receive compensation for production flight testing powered parachutes and weight-shift-control aircraft intended for certification in the light-sport category under § 21.190.

11. Revise student sport pilot solo cross-country navigation and communication flight training requirements.

12. Clarify cross-country distance requirements for private pilots seeking to operate weight-shift-control aircraft.

13. Revise aeronautical experience requirements at towered airports for persons seeking to operate a powered parachute or weight-shift-control aircraft as a private pilot.

14. Remove the requirement for pilots with only a powered parachute or a weight-shift-control aircraft rating to take a knowledge test for an additional rating at the same certificate level.

15. Revise the amount of hours of flight training an applicant for a sport pilot certificate must log within 60 days prior to taking the practical test.

16. Remove expired ultralight transition provisions and limit the use of aeronautical experience obtained in ultralight vehicles.

17. Add a requirement for student pilots to obtain endorsements identical to those proposed for sport pilots in §§ 61.324 and 61.327.

18. Clarify that an authorized instructor must be in a powered parachute when providing flight instruction to a student pilot.

19. Remove the requirement for aircraft certificated as experimental aircraft in the light-sport category to comply with the applicable maintenance and preventive maintenance requirements of part 43 when those aircraft have been previously issued a special airworthiness certificate in the light-sport category.

20. Require aircraft owners or operators to retain a record of the current status of applicable safety directives for special light-sport aircraft.

21. Provide for the use of aircraft with a special airworthiness certificate in the light-sport category in training courses approved under part 141.

22. Revise the minimum safe-altitude requirements for powered parachutes and weight-shift-control aircraft.

II.B.1. Replace sport pilot privileges with aircraft category and class ratings on all pilot certificates (§§ 61.1, 61.3, 61.5, 61.7, 61.23, 61.31, 61.51, 61.52, 61.63, 61.87, 61.303, 61.309, 61.311, 61.313, 61.317, and 61.321)

Currently, to obtain additional aircraft category and class privileges at the sport pilot level, the holder of a pilot certificate must complete a proficiency check administered by an authorized instructor. Upon successful completion of that proficiency check, that person receives a logbook endorsement from the instructor who administered the proficiency check. That endorsement permits the person completing the proficiency check to exercise sport pilot privileges in the category and class of aircraft in which the proficiency check was administered.

Consistent with the FAA's system for issuing all other pilot certificates and ratings, the FAA is proposing to require a person seeking privileges to operate an additional category and class of light-sport aircraft as a sport pilot to obtain the appropriate category and class rating. These ratings would be issued after the completion of a practical test typically administered by an FAA-designated pilot examiner (DPE). The practice of obtaining privileges to operate a light-sport aircraft after completion of a proficiency check by an authorized instructor would be discontinued. Privileges to operate light-sport aircraft would be indicated as ratings on a person's pilot certificate rather than by an endorsement in a person's logbook.

As a result of experience gained in administering the July 2004 final rule, the FAA recognizes that authorized instructors are generally not trained to administer tests leading to the issuance of certificate privileges, and that the FAA does not have procedures in place (such as those used for DPEs) to oversee that activity. Currently, authorized instructors are not required to receive training in the administration of proficiency checks or practical tests; however, DPEs tasked with administering practical tests normally complete a course consisting of 40 hours of initial training prior to receiving their designation as pilot examiners. These examiners are directly supervised by an aviation safety inspector and must complete recurrent training consisting of a 10-hour online course and 4 hours of individual training in addition to completing a flight evaluation from an aviation safety inspector every year prior to renewal of their designation. A DPE's designation can be terminated if the FAA determines that person cannot administer a practical test in accordance with the Practical Test Standards (PTS).

Under the current system of administering proficiency checks, authorized instructors are not directly supervised by any FAA personnel. The FAA cannot (absent certificate action) restrict the ability of an authorized instructor to administer a proficiency check leading to the issuance of additional sport pilot privileges, even if the performance of the authorized instructor in administering proficiency checks is substandard. Additionally, the FAA is experiencing difficulties in obtaining documentation from authorized instructors indicating that proficiency checks have been successfully completed. These difficulties significantly hinder the ability of a person to demonstrate that privileges to operate a specific category and class of aircraft have been awarded if that person's logbook containing the appropriate endorsements for the operation of that category and class of aircraft is lost, destroyed, or otherwise unavailable.

Issuance of sport pilot certificates with category and class ratings would conform to the procedures for the issuance of other pilot certificates and standardizes the manner in which additional privileges are granted. The proposal would place no additional burden on current holders of sport pilot (or other) certificates with category and class privileges obtained through instructor endorsements, provided that the FAA has a record of those endorsements. To facilitate compliance with the rule, the FAA would reissue pilot certificates with the category and class ratings corresponding to the privileges previously granted through instructor endorsements. Persons receiving these certificates would have to take no action to accomplish the exchange of their pilot certificates.

If the FAA does not have a record that a pilot has been granted privileges through an instructor endorsement, that pilot would have to complete an airman certificate and/or rating application (FAA Form 8710-11) and present it, along with evidence of the endorsement, to a designated pilot examiner or FAA inspector, and the FAA would then issue that person a certificate with corresponding category and class ratings. For some individuals, this may result in travel time and transportation cost if there is no closely located DPE or Flight Standards District Office (FSDO). Persons intending to exercise the privileges of their current pilot certificates granted through an endorsement would be required to obtain a new pilot certificate with corresponding category and class ratings within 2 years of the effective date of the final rule.

In addition, the PTS for the sport pilot certificate would not be revised to introduce any requirements as a result of this proposed change. The proposal would place no burden on current holders of these certificates, as the FAA would adopt a procedure for certificate replacement.

II.B.2. Replace sport pilot flight instructor privileges with aircraft category ratings on all flight instructor certificates (§§ 61.181, 61.183, 61.185, 61.187, 61.191, 61.195, and part 61 subpart K)

For reasons similar to those discussed immediately above, the FAA is proposing to require a person holding a flight instructor certificate with a sport pilot rating to obtain sport pilot instructor ratings indicating appropriate category and class privileges. These new ratings would be specifically listed on that person's flight instructor certificate. This change would also apply to flight instructors with other than a sport pilot rating who have privileges to provide instruction in light-sport aircraft obtained through an instructor endorsement. Currently, for a flight instructor to obtain privileges to provide instruction leading to the issuance of a sport pilot certificate in an additional category or class of light-sport aircraft, or to the issuance of a private pilot certificate in a powered parachute or a weight-shift-control aircraft, the holder of that certificate must complete a proficiency check administered by an authorized instructor. Upon successful completion of that proficiency check, that person receives a logbook endorsement from the instructor who administered the proficiency check. That endorsement permits the person completing the proficiency check to provide instruction as a flight instructor with a sport pilot rating in the category and class of aircraft in which the proficiency check was administered.

Consistent with the FAA's system for issuing ratings for other flight instructor certificates, the FAA proposes that a flight instructor seeking to provide training to operate an additional category and class of a light-sport aircraft obtain appropriate category and class ratings. Those ratings would be specifically listed on that person's flight instructor certificate. These ratings would be issued after the completion of a practical test administered by a DPE. The practice of obtaining privileges to provide training in a light-sport aircraft after completion of a proficiency check by an authorized instructor would be discontinued. Privileges to provide training in these light-sport aircraft would be indicated as ratings on that person's flight instructor certificate rather than as an endorsement in that person's logbook.

As stated in II.B.1., authorized instructors are neither trained to administer tests leading to the issuance of certificate privileges nor directly supervised by FAA personnel. The FAA is also experiencing difficulties in obtaining documentation from authorized instructors when administering proficiency checks to flight instructors seeking additional privileges.

Issuance of flight instructor certificates with sport pilot category and class ratings would generally conform to the procedures for the issuance of other ratings on the flight instructor certificate and standardize the manner in which additional flight instructor privileges are granted. The proposal would place no additional burden on current holders of flight instructor certificates with a sport pilot rating or other instructors with flight instructor privileges issued through an instructor endorsement, provided that the FAA has a record of these endorsements. To facilitate compliance with the rule, the FAA would reissue flight instructor certificates with the category and class ratings corresponding to the privileges previously granted through instructor endorsements. This action would occur at the time the flight instructor applies for renewal or reinstatement of his or her flight instructor certificate, which may occur as much as 27 calendar months after the effective date of the rule. If the FAA does not have a record that a flight instructor with a sport pilot rating has been granted privileges through an instructor endorsement, that flight instructor would have to complete an airman certificate and/or rating application (FAA Form 8710-11) and present it, along with evidence of the endorsement, to a designated pilot examiner or FAA inspector. The FAA would then issue that person a flight instructor certificate with corresponding sport pilot category and class ratings. For some individuals, this may result in travel time and transportation cost if there is no closely located DPE or FSDO.

To limit the burden placed on future applicants for a flight instructor certificate with a sport pilot rating, the FAA would retain the provisions of current § 61.419, which do not require an applicant who seeks to obtain privileges to provide training in an additional category or class of light-sport aircraft to take an additional knowledge test. These provisions would be codified in proposed § 61.191(c), which would not require a person who applies for an additional sport pilot rating on a flight instructor certificate to pass a knowledge test on the areas listed in proposed § 61.185(a)(2)(ii).

II.B.3. Remove current provisions for the conduct of proficiency checks by authorized flight instructors and include provisions for the issuance of category and class ratings by designated pilot examiners (§ 61.413)

At this time, flight instructors with a sport pilot rating may perform proficiency checks leading to the issuance of privileges equivalent to those of ratings. These checks are performed without any additional training, and the FAA has observed that there is little standardization in the administration of these checks and the completion of the documentation necessary for the issuance of additional sport pilot privileges. Flight instructors receive no training in the administration of proficiency checks and their actions in conducting these tests are not supervised or reviewed by the FAA.

To correct these deficiencies, the FAA is proposing to remove § 61.413(i) to no longer permit flight instructors to administer proficiency checks leading to the issuance of sport pilot privileges. Privileges currently obtained in this manner would be replaced with privileges obtained through the issuance of a rating issued by a DPE specifically trained to administer practical tests.

II.B.4. Place all requirements for flight instructors under a single subpart (subpart H) of part 61 (Part 61 subpart H heading, §§ 61.5, 61.181, 61.183, 61.185, 61.186, 61.187, 61.189, 61.191, 61.193, 61.195, 61.197, 61.199, and §§ 61.401 through 61.431)

The FAA is proposing to move the requirements for flight instructors with a sport pilot rating currently found in part 61 subpart K (§§ 61.401 through 61.431) to current part 61 subpart H. All flight instructor requirements would be located in one subpart. This action would standardize certification requirements for all flight instructors. The FAA recognizes that many of the requirements contained in subpart K for flight instructors with a sport pilot rating are identical to those contained in subpart H for flight instructors with other ratings. If the proposed changes for flight instructors currently certificated under subpart K are adopted, the privileges and limitations of those flight instructors and the methods by which they are certificated would be so similar to those of flight instructors currently certificated under subpart H that separate subparts for the certification of all flight instructors would no longer be necessary. The FAA believes that eliminating redundancies caused by the retention of two separate subparts would clarify requirements applicable to all flight instructors. This change would significantly reduce confusion experienced by the flight instructor community, especially among those flight instructors currently certificated under subpart H who intend to provide training to persons seeking sport pilot certificates. In addition, the change would provide all flight instructors with a single source of information for their certification requirements and the privileges and limitations applicable to their certificates.

The following table shows the proposed relocation of the subpart K requirements to subpart H.

Subpart K—Flight instructors with a sport pilot rating | Subpart H—Flight instructors other than flight instructors with a sport pilot rating
Subpart heading—Removed | Subpart heading revised.
§ 61.401 What is the purpose of this subpart? | § 61.181 Applicability.
§ 61.403 What are the age, language, and pilot certificate requirements for a flight instructor certificate with a sport pilot rating? | § 61.183 Eligibility requirements.
§ 61.405 What tests do I have to take to obtain a flight instructor certificate with a sport pilot rating? | § 61.183(f) Eligibility requirements.
§ 61.407 What aeronautical knowledge must I have to apply for a flight instructor certificate with a sport pilot rating? | § 61.185 Aeronautical knowledge.
§ 61.409 What flight proficiency requirements must I meet to apply for a flight instructor certificate with a sport pilot rating? | § 61.187 Flight proficiency.
§ 61.411 What aeronautical experience must I have to apply for a flight instructor certificate with a sport pilot rating? | § 61.186 Aeronautical experience requirements for persons applying for a flight instructor certificate with a sport pilot rating.
§ 61.413 What are the privileges of my flight instructor certificate with a sport pilot rating? | § 61.193 Flight instructor privileges.
§ 61.415 What are the limits of my flight instructor certificate with a sport pilot rating? | § 61.195 Flight instructor limitations and qualifications.
§ 61.417 Will my flight instructor certificate with a sport pilot rating list aircraft category and class ratings? | § 61.5 Certificates and ratings issued under this part.
§ 61.419 How do I obtain privileges to provide training in an additional category or class of light-sport aircraft? | § 61.191 Additional flight instructor ratings.
§ 61.421 May I give myself an endorsement? | § 61.195 Flight instructor limitations and qualifications.
§ 61.423 What are the recordkeeping requirements for a flight instructor certificate with a sport pilot rating? | § 61.189 Flight instructor records.
§ 61.425 How do I renew my flight instructor certificate? | § 61.197 Renewal of flight instructor certificates.
§ 61.427 What must I do if my flight instructor certificate with a sport pilot rating expires? | § 61.199 Expired flight instructor certificates and ratings.
§ 61.429 May I exercise the privileges of a flight instructor certificate with a sport pilot rating if I hold a flight instructor certificate with another rating? | §§ 61.189 Flight instructor records, 61.193 Flight instructor privileges, and 61.195 Flight instructor limitations and qualifications.
§ 61.431 Are there special provisions for obtaining a flight instructor certificate with a sport pilot rating for persons who are registered ultralight instructors with an FAA-recognized ultralight organization? | Removed.

II.B.5. Require 1 hour of flight training on the control and maneuvering of an airplane solely by reference to instruments for student pilots seeking a sport pilot certificate to operate an airplane with a VH greater than 87 knots CAS and sport pilots operating airplanes with a VH greater than 87 knots CAS (§§ 61.89, 61.93, and 61.327)

Current regulations require student pilots seeking a sport pilot certificate to receive and log flight training in the control and maneuvering of an aircraft solely by reference to flight instruments. This training must be received before conducting a solo cross-country flight or any flight greater than 25 nautical miles from the airport from where the flight originated. It also must be received prior to making a solo flight and landing at any location other than the airport of origination. These requirements are detailed in § 61.93 and are applicable to persons seeking a student pilot certificate to operate any category and class of aircraft. That section, however, does not specify any minimum flight training time to meet these requirements. In addition, current regulations for the issuance of a sport pilot certificate do not require an applicant to receive flight training on the control and maneuvering of any aircraft solely by reference to instruments.

The FAA is concerned that persons exercising student or sport pilot privileges in airplanes with a maximum airspeed in level flight with maximum continuous power (VH) greater than 87 knots calibrated airspeed (CAS) may inadvertently encounter conditions less than those specified for VFR operations due to their greater speed and range. Operators of these aircraft are more likely to encounter instrument meteorological conditions than operators of other categories of aircraft. In order to enhance the ability of these pilots to appropriately react to the possibility of encountering instrument meteorological conditions and the potential consequences of attempting continued visual flight rule (VFR) flight in instrument meteorological conditions, the FAA is proposing to require persons operating an airplane with a VH greater than 87 knots CAS to receive and log 1 hour of flight training on the control and maneuvering of an aircraft solely by reference to instruments.

The FAA recognizes that persons may currently be authorized to operate aircraft with a VH greater than 87 knots CAS. To provide those persons with a reasonable period of time to obtain this training, the agency is proposing that the training be completed by 1 year after the effective date of the final rule. This training would include straight and level flight, climbs and descents, turns to a heading, and recovery from unusual flight attitudes. Due to the slower speeds and limited capabilities of categories and classes of aircraft other than airplanes, the FAA is not proposing that this requirement be extended to operators of those categories and classes of aircraft and airplanes with a VH less than or equal to 87 knots CAS. The FAA notes that for training to be conducted solely by reference to instruments in visual meteorological conditions, it must be conducted with a view-limiting device.

II.B.6. Remove the requirement for persons exercising sport pilot privileges and flight instructors with a sport pilot rating to carry their logbooks while in flight (§ 61.51)

The FAA is proposing to remove the requirements in § 61.51(i)(3) and (i)(5) for persons exercising sport pilot privileges and flight instructors with a sport pilot rating to carry their logbooks while in flight. Because the FAA is proposing to issue category and class ratings for sport pilots, the requirement for a sport pilot to carry a logbook or other evidence of required authorized instructor endorsements would no longer be necessary. Similarly, because the FAA is also proposing to issue sport pilot ratings for flight instructors, the requirement for a flight instructor to carry a logbook or other evidence of required endorsements would no longer be necessary.

All pilots and flight instructors are required to have their certificates in their physical possession or readily accessible in the aircraft when exercising the privileges of that certificate. Because ratings are listed on pilot and flight instructor certificates, the proposal, if adopted, would enable the FAA to determine that a pilot or flight instructor was properly rated to operate or provide instruction in an aircraft without the need to examine that person's logbook or other documentation. Any additional endorsements required for a person to exercise sport pilot privileges need not be in that person's physical possession or readily accessible in the aircraft; however, a person must present those required records for inspection upon a reasonable request, as required by § 61.51(i).

Because all pilots and flight instructors will not have certificates reflecting the new ratings until 27 months after the effective date of the proposed provisions, the FAA would not implement the provisions of this section until after that time.

II.B.7. Remove the requirement that persons exercising sport pilot privileges have an aircraft make-and-model endorsement to operate a specific set of aircraft while adding specific regulatory provisions for endorsements for the operation of powered parachutes with elliptical wings and aircraft with a VH less than or equal to 87 knots CAS (§§ 61.315, 61.319, 61.324, and 61.327)

To operate any aircraft within a set of aircraft, a person exercising sport pilot privileges must have a logbook endorsement from an authorized flight instructor for a specific category, class, and make and model of aircraft within that set of light-sport aircraft. This requirement is specified in current § 61.319, and the procedure for obtaining the endorsement is found in § 61.323. At the time the rules were adopted, the FAA believed that grouping makes and models of light-sport aircraft that have similar performance and operating characteristics as a set of aircraft was an effective means to permit persons exercising sport pilot privileges to operate any aircraft within that set once an endorsement to operate any aircraft within that set had been received.

In implementing the 2004 final rule, the FAA developed standards for defining and establishing sets of aircraft. Sets of aircraft were developed for airplanes, weight-shift-control aircraft, powered parachutes, gyroplanes, and lighter-than-air aircraft. Airplanes, for example, were grouped into eight specific sets, with four specific sets for airplanes with a VH less than or equal to 87 knots (tricycle gear, tailwheel, ski-equipped, and float-equipped), and four identical sets for airplanes with a VH greater than 87 knots. The FAA has used this concept of grouping aircraft having similar operating characteristics successfully in the National Designated Pilot Examiner Registry (NDPER) program for training and checking pilots operating warbirds and other vintage aircraft. The FAA believed that incorporating a requirement for a specific endorsement based on a set of aircraft would ensure that any person exercising sport pilot privileges would receive additional flight training appropriate to the aircraft in which operations would be conducted.

When the various sets of aircraft were being developed to implement the 2004 rule, the FAA required specific endorsements for a person to operate an aircraft within a set. For example, for a sport pilot to operate a powered parachute with an elliptical wing or an aircraft with a VH at or below 87 knots, that person must obtain a make-and-model endorsement for that set of aircraft. In addition, a specific endorsement is currently required to operate aircraft with a VH greater than 87 knots. A specific endorsement is also required to operate an aircraft equipped with a tailwheel. A proficiency check also is required to operate an airplane—single-engine land or airplane—single-engine sea. Due to the duplicative nature of currently required endorsements and proficiency checks, the FAA has determined that a specific requirement for a make-and-model endorsement to operate any aircraft within a set of aircraft is redundant, and that safety concerns can be adequately addressed using existing endorsements and the additional endorsements set forth in this NPRM.

The FAA is therefore proposing to add § 61.315(c)(20) to specify that the holder of a sport pilot certificate with a powered parachute rating may not act as pilot in command of a light-sport aircraft that is a powered parachute with an elliptical wing unless that holder has met the endorsement requirements proposed in § 61.324. Additionally, the FAA is also proposing to revise § 61.315(c)(14) to require the holder of a sport pilot certificate with any category and class rating to meet the endorsement requirements proposed in § 61.327. That section would require the holder of a sport pilot certificate seeking to operate a light-sport aircraft that has a VH less than or equal to 87 knots CAS to receive and log ground and flight training from an authorized instructor. A person receiving that training would also be required to receive a logbook endorsement from the authorized instructor who provided that training certifying that he or she is proficient in the operation of those aircraft. The current endorsement to operate a light-sport aircraft with a VH greater than 87 knots CAS would be retained.

The FAA believes that deleting the requirement for set-of-aircraft endorsements while having specific regulatory provisions for sport pilots to obtain endorsements to operate powered parachutes with an elliptical wing, aircraft with a VH less than or equal to 87 knots CAS, and aircraft with a VH greater than 87 knots CAS would eliminate redundant endorsement requirements and provide a level of safety equivalent to that found in the current regulation. The FAA recognizes that pilots may currently be authorized to operate powered parachutes with an elliptical wing and aircraft with a VH less than or equal to 87 knots without the endorsements specified in the proposal. The proposal would not require persons with pilot-in-command time in these aircraft prior to the effective date of the final rule to obtain these endorsements.

II.B.8. Remove the requirement for all flight instructors to log at least 5 hours of flight time in a make and model of light-sport aircraft before providing training in any aircraft from the same set in which that training is given (§ 61.415)

The FAA is proposing to eliminate the requirement in § 61.415(e) for flight instructors exercising the privileges of a sport pilot rating to have logged 5 hours of flight time in order to provide flight instruction in a make and model aircraft within a specific set of aircraft. The FAA has determined that the aeronautical experience requirements for the issuance of a flight instructor certificate with a sport pilot rating and the endorsements necessary to exercise those privileges are sufficient for an instructor to safely provide flight instruction in any aircraft for which that instructor has privileges. If an appropriately rated flight instructor has the required endorsements to operate a specific aircraft, the FAA believes that an additional requirement to obtain 5 hours of aeronautical experience imposes an unnecessary burden on the flight instructor and should not be required to safely provide instruction in that aircraft. The requirement for a flight instructor to log additional aeronautical experience based on the specific set of aircraft in which the person intends to provide instruction would also no longer be necessary if the proposal to eliminate the requirement in § 61.319 for a person exercising sport pilot privileges to have a make and model endorsement to operate any aircraft within a specific set of aircraft is adopted.

II.B.9. Permit persons exercising sport pilot privileges and the privileges of a student pilot seeking a sport pilot certificate to fly up to an altitude of not more than 10,000 feet MSL or 2,000 feet AGL, whichever is higher (§§ 61.89 and 61.315)

Section 61.89 describes the general limitations for student pilots. Paragraph (c)(3) of that section states that a student pilot seeking a sport pilot certificate may not act as pilot in command of an aircraft at an altitude of more than 10,000 feet mean sea level (MSL). Section 61.315(c)(11) places the same limitation on sport pilots. The FAA is proposing to revise §§ 61.89(c)(3) and 61.315(c)(11) by adding the words “or 2,000 feet AGL [above ground level], whichever is higher.” This revision would allow sport pilots and student pilots seeking a sport pilot certificate to operate in mountainous areas higher than 10,000 feet MSL when such operations are less than 2,000 feet AGL. The FAA believes that the current regulations unnecessarily burden sport pilots and students seeking sport pilot certificates who operate light-sport aircraft in areas of high elevation. These operations can be performed safely because student pilots seeking a sport pilot certificate and sport pilots are currently trained in proper preflight preparation procedures, which include training in aeromedical factors, such as the effects of hypoxia. In addition, these pilots receive training in reduced aircraft performance at high-density altitudes and in the effect of operations at higher altitudes. These pilots are required to demonstrate knowledge of these factors during the practical test.

Additionally, many of the new light-sport aircraft are capable of operating above 10,000 feet MSL. By providing sport pilots with the ability to better utilize the capabilities of these aircraft and operate at higher altitudes in mountainous terrain, the proposed revision should assist in reducing the risks associated with mountain flying. By restricting operations above 10,000 feet MSL to no more than 2,000 feet AGL, sport pilots operating light-sport aircraft should not impose a hazard to high-performance aircraft that routinely operate at higher altitudes.

II.B.10. Permit private pilots to receive compensation for production flight testing of powered parachutes and weight-shift-control aircraft intended for certification in the light-sport category in § 21.190 (§ 61.113)

The FAA is proposing to add § 61.113(h) to allow a private pilot to act as pilot in command for compensation or hire when conducting a production flight test in a powered parachute or a weight-shift-control aircraft intended for certification in the light-sport category under § 21.190.

The 2004 final rule created two new categories of aircraft-powered parachutes and weight-shift-control aircraft. The final rule also permitted the manufacture of these aircraft for certification in the light-sport category under § 21.190. During the manufacturing process, these aircraft must undergo a production flight test. For other categories of aircraft, these production flight tests are carried out by persons with at least a commercial pilot certificate who can receive compensation for the conduct of this activity. The final rule, however, did not create ratings at the commercial pilot level for these two new categories of aircraft. Since private pilots under the current rule cannot receive compensation when conducting production flight tests, the regulations currently do not provide a means for a pilot conducting production flight tests of powered parachutes or weight-shift-control aircraft to be compensated for that activity. The FAA recognizes both the need for production flight tests of these aircraft and the fact that persons conducting these flight tests may be compensated. The proposal therefore would provide a means for appropriately rated pilots with sufficient experience to conduct these flight tests for compensation or hire. The FAA maintains that these operations should be conducted by a person who holds at least a private pilot certificate with the appropriate category and class rating. As reflected in current operating limitations for special light-sport aircraft, the FAA believes that pilots conducting a production flight test should have a minimum of 100 hours pilot-in-command time in the same category of aircraft as that undergoing a production flight test.

The provisions of this rule would only apply to powered parachutes and weight-shift-control aircraft intended for certification under § 21.190. It would not permit private pilots to be compensated for conducting test flights of other aircraft that are not intended for certification under § 21.190 (e.g., experimental amateur-built aircraft that meet the definition of “light-sport aircraft” or aircraft intended for certification as experimental light-sport aircraft under § 21.191(i)).

II.B.11. Revise student sport pilot solo cross-country navigation and communication flight training requirements (§ 61.93)

The FAA is proposing to amend § 61.93(e)(9), (e)(12), (h)(9), (k)(9), and (k)(11) regarding maneuvers and procedures for cross-country flight training in a single-engine airplane, a gyroplane, and an airship. The amendment would except student pilots seeking a sport pilot certificate from the requirement to receive and log flight training on the use of radios for VFR navigation and two-way communications, unless this equipment is installed in the aircraft used for the solo cross-country flight. In addition, the amendment would except student pilots seeking a sport pilot certificate from the requirement to receive and log flight training on control and maneuvering solely by reference to flight instruments, unless operating an airplane with a VH greater than 87 knots CAS. Since sport pilots are not required to be trained in the use of radios for VFR navigation, two-way communications, and flight by reference to instruments, the FAA has determined that student pilots seeking a sport pilot certificate should not be required to receive training in those maneuvers and procedures unless operating an airplane with a VH greater than 87 knots CAS.

II.B.12. Clarify cross-country distance requirements for private pilots seeking to operate weight-shift-control aircraft (§ 61.109)

Currently § 61.109(j)(2)(i) specifies that a person applying for a private pilot certificate with a weight-shift-control rating must log “one cross-country flight over 75 nautical miles total distance” at night with an authorized instructor. Although paragraph (j)(2)(i) uses the term “cross-country flight,” persons applying for this rating frequently have overlooked the provisions of § 61.1(b)(3)(ii)(B), which states that for purposes of meeting the aeronautical experience requirements for a private pilot certificate with a weight-shift-control rating, cross-country time includes a point of landing at least a straight-line distance of more than 50 nautical miles from the original point of departure. To ensure that persons applying for a private pilot certificate with a weight-shift-control rating complete a cross-country flight that meets the requirements of both §§ 61.1 and 61.109(j), the FAA is proposing to add language in § 61.109(j), consistent with § 61.1, to indicate that the cross-country flight must include a point of landing that is a straight-line distance of more than 50 nautical miles from the original point of departure. The proposal merely clarifies the existing regulation and would not add any new requirement.

II.B.13. Revise the aeronautical experience requirements at towered airports for persons seeking to operate a powered parachute or weight-shift-control aircraft as a private pilot (§ 61.109)

The FAA is proposing to revise the aeronautical experience requirements for a private pilot certificate with a powered parachute rating in § 61.109(i)(4)(ii) and for a weight-shift-control aircraft rating in § 61.109(j)(4)(iii). These paragraphs currently state that training for powered parachute and weight-shift-control aircraft ratings must include at least 3 takeoffs and landings (with each landing involving a flight in a traffic pattern) at an airport with an operating control tower. These paragraphs also require that the takeoffs and landings be performed in the specific category of aircraft for which a rating is sought while in solo flight. The FAA is proposing to permit these takeoffs and landings to be performed in any category of aircraft and in either solo or dual flight.

Currently, many persons seeking to obtain ratings in powered parachutes or weight-shift-control aircraft experience difficulty in conducting operations at tower-controlled airports. These aircraft frequently experience difficulty operating in the traffic pattern with other categories and classes of aircraft due to their slower speeds, flight characteristics, and operating limitations. This proposal would allow persons seeking these ratings to conduct operations at tower-controlled airports without the burden of having to conduct these operations in a powered parachute or weight-shift-control aircraft while in solo flight. This proposal would provide applicants with additional flexibility in obtaining the aeronautical experience necessary to conduct operations at tower-controlled airports. An applicant would not only be permitted to obtain the necessary aeronautical experience in the category of aircraft for which a rating is sought while in solo flight, but also in dual flight in any category of aircraft.

II.B.14. Remove the requirement for pilots with only powered parachute and weight-shift-control aircraft ratings to take a knowledge test for an additional rating at the same certificate level (§ 61.63)

The FAA is proposing to amend § 61.63(b)(5) and (c)(5) to permit persons who hold powered parachute and weight-shift-control aircraft category ratings to apply for a pilot certificate with an additional category or class rating without taking an additional knowledge test. Knowledge tests for applicants for category or class ratings for powered aircraft at the same certificate level address identical aeronautical knowledge areas. Persons who hold a category rating for a powered aircraft (other than powered parachutes and weight-shift-control aircraft) are not currently required to take a knowledge test when applying for an additional category or class rating for a powered aircraft at their certificate level.

The 2004 final rule created two additional categories and classes of powered aircraft. In that rule, applicants who hold category ratings for powered parachutes or weight-shift-control aircraft seeking additional category and class ratings were not provided the same relief as that provided to persons who hold category and class ratings for other powered aircraft. The FAA is therefore proposing to amend § 61.63 to provide applicants who hold category ratings for powered parachutes or weight-shift-control aircraft with this relief.

II.B.15. Revise the amount of hours of flight training an applicant for a sport pilot certificate must log within 60 days prior to taking the practical test (§ 61.313)

Current § 61.313 requires an applicant for a sport pilot certificate to log at least “3 hours of flight training on those areas of operation specified in § 61.311 preparing for the practical test, within 60 days before the date of the test.” In developing the aeronautical experience requirements for the issuance of the sport pilot certificate, the FAA based this requirement on the corresponding aeronautical experience requirements for the issuance of higher-level pilot certificates. Those certificates, however, require applicants to log more flight time than is required for the issuance of a sport pilot certificate and to prepare for testing on a higher number of tasks. Due to the lower number of hours required for a person to apply for a sport pilot certificate and the lower number of tasks for which preparation is necessary, the number of hours currently required to be logged within 60 days before the date of the practical test is proportionately higher than that required for other certificates. Accordingly, the FAA is proposing to reduce the number of hours that must be logged in preparation for the practical test within 60 days of that test from 3 hours to 2 hours, for aircraft other than gliders. For gliders, the FAA is proposing to reduce the aeronautical experience that must be logged in preparation for the practical test from 3 hours to 3 training flights. The FAA believes that these proposed changes would better correspond to the time required to prepare for the practical test and recognize the unique characteristics of gliders. The FAA, however, is not reducing the total number of hours required for the issuance of any category and class of sport pilot certificate.

II.B.16. Remove expired ultralight transition provisions and limit the use of aeronautical experience obtained in ultralight vehicles (§§ 61.52, 61.301, 61.309, 61.311, 61.313, 61.329, and 61.431)

Current §§ 61.329 and 61.431 describe special provisions for obtaining sport pilot certificates and flight instructor certificates with a sport pilot rating for persons who are registered with FAA-recognized ultralight organizations. These sections were intended to provide a means for pilots and flight instructors who received training from an FAA-recognized ultralight organization to transition to sport pilot certificates and flight instructor certificates with a sport pilot rating. As provided in the rules, the transition period for obtaining a sport pilot certificate expired on January 31, 2007, and the transition period for obtaining a flight instructor certificate with a sport pilot rating expired on January 31, 2008. Because January 31, 2007, and January 31, 2008, have passed, the FAA is proposing to remove § 61.329 (except for the ultralight pilot record provisions of paragraph (a)(2)(iv), which will be transferred to § 61.52) and § 61.431. In addition, the FAA intends to amend §§ 61.309, 61.311, and 61.313 to remove references to § 61.329. The reference to the expired transition provisions in § 61.301(a)(7) would also be removed.

Additionally, the proposal would revise § 61.52(a) and (b) to permit persons to use aeronautical experience obtained in ultralight vehicles to meet the requirements for certain airman certificates and ratings and also to meet the provisions of § 61.69 until January 31, 2012. The FAA originally adopted the provisions of current § 61.52 to facilitate the process for operators of ultralight vehicles to obtain airman certificates established by the 2004 rule and to meet the requirements of § 61.69. The FAA did not intend for these transition provisions to be indefinite in duration. Since operators of ultralight vehicles should have transitioned to the new airman certificates prior to the date of this proposal, or have used their aeronautical experience to meet the provisions of § 61.69, the FAA believes that retaining the provisions for the use of aeronautical experience in § 61.52 is no longer warranted. The FAA recognizes, however, that operators of ultralight vehicles may have acquired aeronautical experience in ultralight vehicles with the intent of obtaining airman certificates established by the 2004 rule, or to meet the experience requirements of § 61.69. To provide these persons with a sufficient amount of time to use this aeronautical experience to obtain the new certificates, or meet the requirements of § 61.69, the FAA is proposing a date of January 31, 2012, after which the provisions of § 61.52 may no longer be used.

II.B.17. Add a requirement for student pilots to obtain endorsements identical to those proposed for sport pilots in proposed §§ 61.324 and 61.327 (§ 61.89)

In § 61.89, the FAA is proposing to add paragraphs (c)(5) and (c)(6) to require student pilots seeking sport pilot certificates to obtain endorsements identical to those specified in proposed §§ 61.327 (to operate a light-sport aircraft based on VH) and 61.324 (to operate a powered parachute with an elliptical wing), respectively. Currently, sport pilots are required to obtain specific endorsements for the operation of particular light-sport aircraft. These endorsements have not been required for student pilots seeking a sport pilot certificate because these student pilots are required to have a specific make-and-model endorsement for each aircraft they operate. If a student pilot does not obtain the endorsements required for holders of sport pilot certificates, the student pilot is precluded from operating the corresponding light-sport aircraft upon issuance of the sport pilot certificate. By requiring student pilots seeking a sport pilot certificate to receive these identical endorsements while exercising student pilot privileges, the FAA would ensure that newly certificated sport pilots would be able to continue to operate those aircraft in which they have exercised pilot-in-command privileges as student pilots.

II.B.18. Clarify that an authorized instructor must be in a powered parachute when providing flight instruction to a student pilot (§ 61.313)

In § 61.313(g)(1), which describes the requirements for logging aeronautical experience to obtain powered parachute category land or sea class ratings, the FAA is proposing to add the words “from an authorized instructor in a powered parachute aircraft” to clarify that an authorized instructor must be in the aircraft for a student pilot to log flight training time. The FAA is concerned that there is confusion in the sport pilot community whether paragraph (g)(1) allows for “radio flight training” (i.e., flight training when an authorized instructor is not in the aircraft), which was not the FAA's intent. The proposed change would be consistent with other provisions for logging the aeronautical experience necessary to apply for a sport pilot certificate and would clarify that all flight training must be received from an authorized instructor in flight in an aircraft, as specified in § 61.1(b)(6).

Also in § 61.313(g)(1), the FAA is changing the words “at least 2 hours of solo flight training” to “at least 2 hours of solo flight time.” The word “training” implies that an instructor should be in the aircraft, which is not appropriate in a solo flight time requirement.

II.B.19. Remove the requirement for aircraft certificated as experimental aircraft in the light-sport category to comply with the applicable maintenance and preventive maintenance requirements of part 43 when those aircraft have been previously issued a special airworthiness certificate in the light-sport category (§ 43.1)

Currently, aircraft that have been issued a special airworthiness certificate in the light-sport category must continue to meet the applicable maintenance and preventive maintenance requirements of part 43 when those aircraft are subsequently certificated as experimental light-sport aircraft under § 21.191(i)(3).

A manufacturer may produce a special light-sport aircraft for certification under the provisions of § 21.190 and the maintenance provisions of part 43 will apply to that aircraft. The manufacturer may continue to produce that same aircraft as an aircraft kit under the provisions of § 21.191(i)(2), and part 43 will not apply to the maintenance of that aircraft. However, that same aircraft, when originally certificated under § 21.190 and subsequently re-certificated as an experimental light-sport aircraft under the provisions of § 21.191(i)(3) must continue to comply with the provisions of part 43. Additionally, these rules preclude non-certificated persons from performing maintenance on aircraft originally certificated under § 21.190 and subsequently re-certificated under § 21.191(i)(3), even though these experimental aircraft are restricted to personal use. When originally proposing these rules, the FAA's intent was to have identical maintenance requirements for all aircraft certificated under § 21.191(i) regardless of whether they were previously certificated in another category. The current maintenance rules for these aircraft, however, negate the underlying rationale for originally adopting the provisions of § 21.191(i)(3). The FAA is therefore proposing to amend § 43.1 to remove the requirement for aircraft certificated as experimental aircraft in the light-sport category to comply with the requirements of part 43 when those aircraft have been previously issued a special airworthiness certificate in the light-sport category. The proposal would conform maintenance requirements for aircraft certificated under § 21.191(i) to the original intent of the 2004 final rule.

II.B.20. Require aircraft owners or operators to retain a record of the current status of applicable safety directives for special light-sport aircraft (§ 91.417)

Currently § 91.327(b)(4) specifies that no person may operate an aircraft that has a special airworthiness certificate in the light-sport category unless the owner or operator complies with each safety directive applicable to the aircraft that corrects an existing unsafe condition. Although owners and operators must comply with these safety directives, there currently is no requirement to retain a record of the current status of applicable safety directives or transfer of that information at the time of sale of the aircraft.

Without a requirement to retain and transfer this information, owners, operators, and FAA safety inspectors are not able to easily determine whether maintenance actions critical to flight safety have been accomplished on special light-sport aircraft. This requirement should have been included in the 2004 final rule. The FAA is therefore proposing to revise § 91.417(a)(2)(v) to require owners or operators to retain these records. These records must be transferred in accordance with the provisions of § 91.419.

II.B.21. Provide for use of aircraft with a special airworthiness certificate in the light-sport category in training courses approved under part 141 (§ 141.39)

When the 2004 final rule was issued, the FAA did not revise part 141 to provide for the use of light-sport aircraft in courses approved under that part. Since that time, the FAA has received requests for special light-sport aircraft to be used in courses approved under part 141. Although special light-sport aircraft are not type-certificated aircraft, they are designed, manufactured, and certificated in accordance with consensus standards that have been accepted by the FAA. When part 141 was originally adopted, the FAA did not contemplate the use of aircraft manufactured in accordance with consensus standards. Since these aircraft are manufactured in accordance with FAA-accepted consensus standards, the FAA believes that these aircraft provide an acceptable level of safety for use in part 141 training courses. To be used in a course approved under part 141, the aircraft also would have to be properly equipped for performing the tasks specified in the training course in which the aircraft would be used. The FAA is therefore proposing to revise § 141.39(b) to permit the use of special light-sport aircraft in training courses that are approved under part 141.

II.B.22. Revise minimum safe-altitude requirements for powered parachutes and weight-shift-control aircraft, and balloons (§ 91.119)

Currently pilots of powered parachutes and weight-shift-control aircraft must remain at least 1,000 feet above the highest obstacle within a horizontal radius of 2,000 feet when operating over any congested area of a city, town, or settlement, or over any open-air assembly of persons. When operating over other than congested areas, powered parachutes and weight-shift-control aircraft must be operated at an altitude of 500 feet above the surface, except when operating over open water or sparsely populated areas. When operating over these areas, these aircraft may not be operated closer than 500 feet to any person, vessel, vehicle, or structure. The restrictions specified for operations over congested areas and other than congested areas are not applicable when necessary for the takeoff or landing of the aircraft.

While the FAA believes that current operating restrictions for powered parachutes and weight-shift-control aircraft over congested areas are appropriate, the agency believes that current restrictions on the operation of powered parachutes and weight-shift-control aircraft over other than congested areas are overly restrictive.

The FAA recognizes that the operational characteristics (lower maximum gross weights, slower speeds, and lower climb rates) of powered parachutes and weight-shift control aircraft enable them to safely operate over other than congested areas at altitudes lower than those at which other aircraft are routinely operated. Additionally, many of these aircraft have been designed with the intent of conducting operations at altitudes below those permitted by the current regulation. Requiring these aircraft to operate at altitudes more appropriate to other categories and classes of aircraft significantly decreases their utility to owners and operators. In the event of a forced landing, the slower speeds, lower weights, and greater maneuverability of these aircraft allow for shorter landing distances and lower impact forces. The FAA is therefore proposing to amend § 91.119 to allow powered parachutes and weight-shift-control aircraft to be operated over other than congested areas at less than 500 feet above the surface, provided the operation is conducted without hazard to persons or property on the surface.

III. Paperwork Reduction Act

Information collection requirements associated with the proposed amendments to part 61 to replace sport pilot privileges with aircraft category and class ratings on all pilot certificates and to replace sport pilot flight instructor privileges with aircraft category ratings on all flight instructor certificates have been approved previously by the Office of Management and Budget (OMB) under the provisions of the Paperwork Reduction Act of 1995 (44 U.S.C. 3507(d)) and assigned OMB Control Number 2120-0690. This rulemaking action would ensure that sport pilots and flight instructors with a sport pilot rating are in compliance with the FAA's existing requirement that a record of their logbook endorsements are on file with the FAA.

Information collection requirements associated with the proposed amendment to § 91.419 to require owners and operators of special light-sport aircraft (SLSAs) to retain a record of the current status of applicable safety directives and transfer that information at the time of the sale of that aircraft would be a new information collection requirement. As required by the Paperwork Reduction Act of 1995 (44 U.S.C. 3507(d)), the FAA has submitted the information requirements associated with this proposal to the Office of Management and Budget for its review. A summary of those requirements is as follows.

Use: The information will be used to enable safety inspectors, in situations such as accident investigations, to determine whether required maintenance actions were accomplished on SLSAs.

Respondents: There are currently 927 registered SLSAs (expected to increase by 75 aircraft every 2 years). However, the FAA does not know the exact numbers of owners and operators. The FAA expects the number of owners and operators would be fewer than 927.

Frequency: Owners and operators of SLSAs would retain and transfer records on the status of safety directives only when safety directives have been issued on their SLSAs. The FAA estimates that it would take an owner operator 2 hours per year to comply with the requirement.

Annual Burden Estimate

There would be no annualized cost to the Federal government. For owners and operators, the total hour burden would be 21,540 hours over a 10-year period. The average number of hours each year would be 2,154, computed as follows:

Year | Number of SLSA aircraft | Hours per aircraft | Total hour burden
2008 | 927 | 2 | 1,854
2009 | 927 | 2 | 1,854
2010 | 1002 | 2 | 2,004
2011 | 1002 | 2 | 2,004
2012 | 1077 | 2 | 2,154
2013 | 1077 | 2 | 2,154
2014 | 1152 | 2 | 2,304
2015 | 1152 | 2 | 2,304
2016 | 1227 | 2 | 2,454
2017 | 1227 | 2 | 2,454
Total |  |  | 21,540
Average |  |  | 2,154

The total cost burden, assuming the value of an owner or operator's time is $31.50 per hour, would be $678,510 ($467,646 discounted). The annualized cost would be $66,584 per year ($467,646 multiplied by 0.14238 (the capital recovery factor)).

The agency is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of collecting information on those who are to respond, including by using appropriate automated, electronic, mechanical, or other technological collection techniques or other forms of information technology.

Individuals and organizations may send comments on the information collection requirement by June 16, 2008, and should direct them to the address listed in the Addresses section at the end of this preamble. Comments also should be submitted to the Office of Management and Budget, Office of Information and Regulatory Affairs, Attention: Desk Officer for FAA, New Executive Building, Room 10202, 725 17th Street, NW., Washington, DC 20053.

According to the 1995 amendments to the Paperwork Reduction Act (5 CFR 1320.8(b)(2)(vi)), an agency may not collect or sponsor the collection of information, nor may it impose an information collection requirement unless it displays a currently valid OMB control number. The OMB control number for this information collection will be published in the Federal Register, after the Office of Management and Budget approves it.

IV. International Compatibility

In keeping with U.S. obligations under the Convention on International Civil Aviation, it is FAA policy to comply with International Civil Aviation Organization (ICAO) Standards and Recommended Practices to the maximum extent practicable. The FAA has determined that there are no ICAO Standards and Recommended Practices that correspond to these proposed regulations.

V. Regulatory Notices and Analyses

V.A. Economic Assessment

Changes to Federal regulations must undergo several economic analyses. First, Executive Order 12866 directs that each Federal agency shall propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. In developing U.S. standards, this Trade Act requires agencies to consider international standards and, where appropriate, that they be the basis of U.S. standards. Fourth, the Unfunded Mandates Reform Act of 1995 (Pub. L. 104-4) requires agencies to prepare a written assessment of the costs, benefits, and other effects of proposed or final rules that include a Federal mandate likely to result in the expenditure by State, local, or tribal governments, in the aggregate, or by the private sector, of $100 million or more annually (adjusted for inflation with base year of 1995). This portion of the preamble summarizes the FAA's analysis of the economic impacts of this proposed rule. We suggest readers seeking greater detail read the full regulatory evaluation, a copy of which we have placed in the docket for this rulemaking.

In conducting these analyses, FAA has determined that this proposed rule: (1) Has benefits that justify its costs, (2) is not an economically “significant regulatory action” as defined in section 3(f) of Executive Order 12866, (3) is not “significant” as defined in DOT's Regulatory Policies and Procedures; (4) would not have a significant economic impact on a substantial number of small entities; (5) would not create unnecessary obstacles to the foreign commerce of the United States; and (6) would not impose an unfunded mandate on State, local, or tribal governments, or on the private sector by exceeding the threshold identified above. These analyses are summarized below.

Costs and Benefits: The total cost of this rule would be approximately $8.2 million ($5.8 million, discounted). Much of this cost ($4.3 million) is attributed to new training requirements for sport pilots who fly aircraft with a VH greater than 87 knots CAS. Another substantial portion of the cost ($3.0 million) is attributed to changes to the way in which sport pilot practical exams are administered. Benefits include increased safety for sport pilots flying in conditions requiring navigation by reference to instruments, the ability for pilots of powered parachutes and weight-shift-control aircraft to fly at lower altitudes in other-than-congested areas, and the ability for sport pilots to possess certificates with ratings similar to those of other pilots.

V.B. Regulatory Flexibility Determination

The Regulatory Flexibility Act of 1980 (Pub. L. 96-354)(RFA) establishes “as a principle of regulatory issuance that agencies shall endeavor, consistent with the objectives of the rule and of applicable statutes, to fit regulatory and informational requirements to the scale of the businesses, organizations, and governmental jurisdictions subject to regulation. To achieve this principle, agencies are required to solicit and consider flexible regulatory proposals and to explain the rationale for their actions to assure that such proposals are given serious consideration.” The RFA covers a wide-range of small entities, including small businesses, not-for-profit organizations, and small governmental jurisdictions.

Agencies must perform a review to determine whether a rule will have a significant economic impact on a substantial number of small entities. If the agency determines that it will, the agency must prepare a regulatory flexibility analysis as described in the RFA.

However, if an agency determines that a rule is not expected to have a significant economic impact on a substantial number of small entities, section 605(b) of the RFA provides that the head of the agency may so certify and a regulatory flexibility analysis is not required. The certification must include a statement providing the factual basis for this determination, and the reasoning should be clear.

This proposed rule would impose minimal costs on individuals who are or are in the process of becoming sport pilots. Most of these individuals fly for sport or recreation, and therefore the Regulatory Flexibility Act does not apply to them. However, the rule would impose costs on flight instructors with sport pilot ratings who provide instruction as a business endeavor, and in this case the Regulatory Flexibility Act does apply. The estimated 390 current instructors who have already filed the correct paperwork with the FAA would pay nothing. The estimated 210 instructors who have not filed the proper paperwork would incur a one-time cost of approximately $130 each, which the FAA does not consider a significant cost. Therefore, the FAA certifies that this proposed rule would not have a significant economic impact on a substantial number of flight instructors with a sport pilot rating engaged in a business endeavor. The FAA requests comments from affected entities on this finding and determination.

V.C. International Trade Impact Assessment

The Trade Agreements Act of 1979 (Pub. L. 96-39) prohibits Federal agencies from establishing any standards or engaging in related activities that create unnecessary obstacles to the foreign commerce of the United States. Legitimate domestic objectives, such as safety, are not considered unnecessary obstacles. The statute also requires consideration of international standards and, where appropriate, that they be the basis for U.S. standards. The FAA has assessed the potential effect of this proposed rule and has determined that it would have no significant impact on international trade.

V.D. Unfunded Mandates Assessment

Title II of the Unfunded Mandates Reform Act of 1995 (Pub. L. 104-4) requires each Federal agency to prepare a written statement assessing the effects of any Federal mandate in a proposed or final agency rule that may result in an expenditure of $100 million or more (adjusted annually for inflation with the base year 1995) in any one year by State, local, and tribal governments, in the aggregate, or by the private sector; such a mandate is deemed to be a “significant regulatory action.” The FAA currently uses an inflation-adjusted value of $128.1 million in lieu of $100 million. This proposed rule does not contain such a mandate.

V.E. Executive Order 13132, Federalism

The FAA has analyzed this proposed rule under the principles and criteria of Executive Order 13132, Federalism. We determined that this action would not have a substantial direct effect on the States, on the relationship between the national Government and the States, or on the distribution of power and responsibilities among the various levels of government, and, therefore, would not have federalism implications.

V.F. Environmental Analysis

FAA Order 1050.1E identifies FAA actions that are categorically excluded from preparation of an environmental assessment or environmental impact statement under the National Environmental Policy Act in the absence of extraordinary circumstances. The FAA has determined this proposed rulemaking action qualifies for the categorical exclusion identified in paragraph 307(k) and involves no extraordinary circumstances.

V.G. Regulations That Significantly Affect Energy Supply, Distribution, or Use

The FAA has analyzed this NPRM under Executive Order 13211, Actions Concerning Regulations that Significantly Affect Energy Supply, Distribution, or Use (May 18, 2001). We have determined that it is not a “significant energy action” under the executive order because it is not a “significant regulatory action” under Executive Order 12866, and it is not likely to have a significant adverse effect on the supply, distribution, or use of energy.

VI. Additional Information

Comments Invited

The FAA invites interested persons to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, please send only one copy of written comments, or if you are filing comments electronically, please submit your comments only one time.

We will file in the docket all comments we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Availability of Rulemaking Documents

You can get an electronic copy of rulemaking documents using the Internet by—

1. Searching the Federal eRulemaking Portal (http://www.regulations.gov);

2. Visiting the FAA's Regulations and Policies Web page at http://www.faa.gov/regulations_policies/; or

3. Accessing the Government Printing Office's Web page at http://www.gpoaccess.gov/fr/index.html.

You can also get a copy by sending a request to the Federal Aviation Administration, Office of Rulemaking, ARM-1, 800 Independence Avenue SW., Washington, DC 20591, or by calling (202) 267-9680. Be sure to identify the docket number, notice number, or amendment number of this rulemaking.

You may access all documents the FAA considered in developing this proposed rule, including economic analyses and technical reports, from the Internet through the Federal eRulemaking Portal referenced in paragraph (1).

List of Subjects

14 CFR Part 43

Aircraft, Aviation safety.

14 CFR Part 61

Aircraft, Airmen, Recreation and recreation areas, Teachers.

14 CFR Part 91

Aircraft, Airmen, Aviation safety, Reporting and recordkeeping requirements.

14 CFR Part 141

Airmen, Educational facilities, Schools.

The Proposed Amendments

In consideration of the foregoing, the FAA proposes to amend parts 43, 61, 91, and 141 of title 14 Code of Federal Regulations (14 CFR parts 43, 61, 91, and 141) as follows:

PART 43—MAINTENANCE, PREVENTIVE MAINTENANCE, REBUILDING, AND ALTERATION

1. The authority citation for part 43 continues to read as follows:

Authority: 49 U.S.C. 106(g), 40113, 44701, 44703, 44705, 44707, 44711, 44713, 44717, 44725.

2. Amend § 43.1 by revising paragraph (b) to read as follows:

§ 43.1 Applicability.

* * * * *

(b) This part does not apply to any aircraft for which the FAA has issued an experimental certificate, unless the FAA has previously issued a different kind of airworthiness certificate, other than a special airworthiness certificate in the light-sport category, for that aircraft.

* * * * *

PART 61—CERTIFICATION: PILOTS, FLIGHT INSTRUCTORS, AND GROUND INSTRUCTORS

3. The authority citation for part 61 continues to read as follows:

Authority: 49 U.S.C. 106(g), 40113, 44701-44703, 44707, 44709-44711, 45102-45103, 45301-45302.

4. Amend § 61.1 by revising paragraphs (b)(3)(iii) introductory text and (b)(3)(iv) introductory text to read as follows:

§ 61.1 Applicability and definitions.

* * * * *

(b) * * *

(3) * * *

(iii) For the purpose of meeting the aeronautical experience requirements for a sport pilot certificate (except for a powered parachute rating), time acquired during a flight conducted in an appropriate aircraft that—

* * * * *

(iv) For the purpose of meeting the aeronautical experience requirements for a sport pilot certificate with a powered parachute rating or a private pilot certificate with a powered parachute category rating, time acquired during a flight conducted in an appropriate aircraft that—

* * * * *

5. Amend § 61.3 by revising paragraphs (c)(2)(i), (c)(2)(ii), (c)(2)(iv), and (c)(2)(v) introductory text to read as follows:

§ 61.3 Requirement for certificates, ratings, and authorizations.

* * * * *

(c) * * *

(2) * * *

(i) Is exercising the privileges of a student pilot certificate while seeking a pilot certificate with a glider category rating or a balloon class rating;

(ii) Is exercising the privileges of a student pilot certificate while seeking a sport pilot certificate with other than glider or balloon ratings and holds a current and valid U.S. driver's license;

* * * * *

(iv) Is exercising the privileges of a sport pilot certificate with glider or balloon ratings;

(v) Is exercising the privileges of a sport pilot certificate with other than glider or balloon ratings and holds a current and valid U.S. driver's license. A person who has applied for or held a medical certificate may exercise the privileges of a sport pilot certificate using a current and valid U.S. driver's license only if that person—

* * * * *

6. Amend § 61.5 by revising paragraph (c)(5) to read as follows:

§ 61.5 Certificates and ratings issued under this part.

* * * * *

(c) * * *

(5) Sport pilot ratings—

(i) Sport pilot—airplane single-engine.

(ii) Sport pilot—weight-shift control aircraft.

(iii) Sport pilot—powered parachute.

(iv) Sport pilot—rotorcraft-gyroplane.

(v) Sport pilot—glider.

(vi) Sport pilot—lighter-than-air airship.

(vii) Sport pilot—lighter-than-air balloon.

* * * * *

7. Amend § 61.7 by adding paragraphs (c), (d), and (e) to read as follows:

§ 61.7 Obsolete certificates and ratings.

* * * * *

(c) Prior to [TWO YEARS FROM EFFECTIVE DATE OF FINAL RULE], the holder of a sport pilot certificate without a category and class rating whose logbook has been endorsed for sport pilot privileges in a specific category and class of aircraft may—

(1) Exercise the privileges of a sport pilot certificate with a corresponding category and class rating; and

(2) Exchange that certificate for a sport pilot certificate with a category and class rating corresponding to the privileges previously held.

(d) Prior to [TWO YEARS FROM EFFECTIVE DATE OF FINAL RULE], the holder of a recreational pilot certificate or higher whose logbook has been endorsed for sport pilot privileges in a specific category and class of aircraft may—

(1) Exercise the privileges of a sport pilot with a category and class rating in an aircraft corresponding to the category and class of aircraft specified in that pilot's logbook endorsement; and

(2) Exchange that certificate for a recreational pilot certificate or higher with a category and class rating corresponding to the sport pilot privileges previously held.

(e) A flight instructor certificate with a sport pilot rating issued before [EFFECTIVE DATE OF FINAL RULE] is equivalent to a flight instructor certificate with a sport pilot rating and the appropriate aircraft category and class rating. A flight instructor certificate with other than a sport pilot rating held by a person who has the privileges of a flight instructor certificate with a sport pilot rating is equivalent to a flight instructor certificate with the corresponding flight instructor ratings and sport pilot category and class ratings. The holder of a flight instructor certificate who has sport pilot privileges not listed on that certificate may not exercise those privileges after [TWENTY SEVEN CALENDAR MONTHS FROM EFFECTIVE DATE OF FINAL RULE].

8. Amend § 61.23 by:

a. Revising paragraph (b)(1);

b. Removing paragraph (b)(2);

c. Redesignating paragraphs (b)(3) through (b)(8) as paragraphs (b)(2) through (b)(7) respectively; and

d. Revising newly redesignated paragraph (b)(3)(i).

The revisions read as follows:

§ 61.23 Medical certificates: Requirement and duration.

* * * * *

(b) * * *

(1) When exercising the privileges of a student pilot certificate while seeking a pilot certificate with a glider category rating or balloon class rating;

* * * * *

(3) * * *

(i) A sport pilot-glider rating or sport pilot-lighter-than air balloon rating; or

* * * * *

§ 61.31 [Amended]

9. Amend § 61.31 by:

a. Adding the word “or” after the semicolon at the end of paragraph (k)(2)(iv);

b. Removing the semicolon and the word “or” at the end of paragraph (k)(2)(v) and adding a period in their place; and

c. Removing paragraph (k)(2)(vi).

10. Amend § 61.51 by:

a. Revising paragraphs (c)(1) and (e)(1)(i);

b. Removing paragraphs (i)(3) and (i)(5); and

c. Redesignating paragraph (i)(4) as (i)(3).

The revision reads as follows:

§ 61.51 Pilot logbooks.

* * * * *

(c) * * *

(1) Apply for a certificate or rating issued under this part; or

* * * * *

(e) * * *

(1) * * *

(i) Is the sole manipulator of the controls of an aircraft for which the pilot is rated;

* * * * *

11. Amend § 61.52 by revising paragraphs (a) introductory text, (b), (c)(2) and (c)(3), and adding paragraph (c)(4) to read as follows:

§ 61.52 Use of aeronautical experience obtained in ultralight vehicles.

(a) Before January 31, 2012, a person may use aeronautical experience obtained in an ultralight vehicle to meet the requirements for the following certificates and ratings issued under this part:

* * * * *

(b) Before January 31, 2012, a person may use aeronautical experience obtained in an ultralight vehicle to meet the provisions of § 61.69.

(c) * * *

(2) Document and log that aeronautical experience in accordance with the provisions for logging aeronautical experience specified by an FAA-recognized organization and in accordance with the provisions for logging pilot time in aircraft as specified in § 61.51;

(3) Obtain the aeronautical experience in a category and class of vehicle that is appropriate to the rating sought; and

(4) Provide the FAA with a certified copy of his or her ultralight pilot records from an FAA-recognized ultralight organization, that—

(i) Document that he or she is a registered ultralight pilot with that FAA-recognized ultralight organization; and

(ii) Indicate that he or she is recognized to operate the category and class of aircraft for which sport pilot privileges are sought.

12. Amend § 61.63 by revising paragraphs (b)(5) and (c)(5) to read as follows:

§ 61.63 Additional aircraft ratings (other than on an airline transport pilot certificate).

* * * * *

(b) * * *

(5) Need not take an additional knowledge test, provided the applicant holds an airplane, rotorcraft, powered-lift, weight-shift-control aircraft, powered parachute, or airship rating at that pilot certificate level.

(c) * * *

(5) Need not take an additional knowledge test, provided the applicant holds an airplane, rotorcraft, powered-lift, weight-shift-control aircraft, powered parachute, or airship rating at that pilot certificate level.

* * * * *

13. Amend § 61.87 by revising the introductory text of paragraphs (d), (g), (i), (j), (l), and (m) to read as follows:

§ 61.87 Solo requirements for student pilots.

* * * * *

(d) Maneuvers and procedures for pre-solo flight training in a single-engine airplane. A student pilot who is receiving training for a single-engine airplane rating must receive and log flight training for the following maneuvers and procedures:

* * * * *

(g) Maneuvers and procedures for pre-solo flight training in a gyroplane. A student pilot who is receiving training for a gyroplane rating must receive and log flight training for the following maneuvers and procedures:

* * * * *

(i) Maneuvers and procedures for pre-solo flight training in a glider. A student pilot who is receiving training for a glider rating must receive and log flight training for the following maneuvers and procedures:

* * * * *

(j) Maneuvers and procedures for pre-solo flight training in an airship. A student pilot who is receiving training for an airship rating must receive and log flight training for the following maneuvers and procedures:

* * * * *

(l) Maneuvers and procedures for pre-solo flight training in a powered parachute. A student pilot who is receiving training for a powered parachute rating must receive and log flight training for the following maneuvers and procedures:

* * * * *

(m) Maneuvers and procedures for pre-solo flight training in a weight-shift-control aircraft. A student pilot who is receiving training for a weight-shift-control aircraft rating must receive and log flight training for the following maneuvers and procedures:

* * * * *

14. Amend § 61.89 by:

a. Revising paragraph (c)(3);

b. Removing the period from the end of paragraph (c)(4) and adding a semicolon; and

c. Adding paragraphs (c)(5), (c)(6), and (c)(7).

The revision and additions read as follows:

§ 61.89 General limitations.

* * * * *

(c) * * *

(3) At an altitude of more than 10,000 feet MSL or 2,000 feet AGL, whichever is higher;

* * * * *

(5) Of a light-sport aircraft without having received the applicable ground training, flight training, and instructor endorsements specified in § 61.327 (a) and (b);

(6) Prior to conducting a cross-country flight in a light-sport aircraft without having received the applicable ground training, flight training, and instructor endorsements specified in § 61.327 (c); and

(7) Of a powered parachute with an elliptical wing without having received the ground training, flight training, and instructor endorsement specified in § 61.324.

15. Amend § 61.93 by revising paragraphs (e)(9), (e)(12), (h)(9), (k)(9), and (k)(11) to read as follows:

§ 61.93 Solo cross-country flight requirements.

* * * * *

(e) * * *

(9) Use of radios for VFR navigation and two-way communication, except that a student pilot seeking a sport pilot certificate must only receive and log flight training on the use of radios installed in the aircraft to be flown;

* * * * *

(12) Control and maneuvering solely by reference to flight instruments, including straight and level flight, turns, descents, climbs, use of radio aids, and ATC directives. For student pilots seeking a sport pilot certificate, the provisions of this paragraph only apply when receiving training for cross-country flight in an airplane that has a VH greater than 87 knots CAS.

* * * * *

(h) * * *

(9) Use of radios for VFR navigation and two-way communication, except that a student pilot seeking a sport pilot certificate must only receive and log flight training on the use of radios installed in the aircraft to be flown; and

* * * * *

(k) * * *

(9) Use of radios for VFR navigation and two-way communication, except that a student pilot seeking a sport pilot certificate must only receive and log flight training on the use of radios installed in the aircraft to be flown;

* * * * *

(11) Control of the airship solely by reference to flight instruments, except for a student pilot seeking a sport pilot certificate; and

* * * * *

16. Amend § 61.109 by:

a. Removing the word “and” at the end of paragraphs (i)(3) and (j)(3);

b. Revising paragraphs (i)(4)(ii) and (j)(2)(i);

c. Adding the word “and” to the end of paragraph (j)(4)(i);

d. Removing paragraph (j)(4)(iii); and

e. Adding paragraphs (i)(5) and (j)(5).

The revisions and additions read as follows:

§ 61.109 Aeronautical experience.

* * * * *

(i) * * *

(4) * * *

(ii) Twenty solo takeoffs and landings to a full stop (with each landing involving a flight in a traffic pattern) at an airport; and

(5) Three takeoffs and landings (with each landing involving a flight in the traffic pattern) in an aircraft at an airport with an operating control tower.

(j) * * *

(2) * * *

(i) One cross-country flight of over 75 nautical miles total distance that includes a point of landing that is a straight-line distance of more than 50 nautical miles from the original point of departure; and

* * * * *

(5) Three takeoffs and landings (with each landing involving a flight in the traffic pattern) in an aircraft at an airport with an operating control tower.

* * * * *

17. Amend § 61.113 by:

a. Amending paragraph (a) by removing the words “paragraphs (b) through (g)” and adding in their place the words “paragraphs (b) through (h)”; and

b. Adding paragraph (h) to read as follows:

§ 61.113 Private pilot privileges and limitations: Pilot in command.

* * * * *

(h) A private pilot may act as pilot in command for the purpose of conducting a production flight test in a light-sport aircraft intended for certification in the light-sport category under § 21.190 of this chapter, provided that—

(1) The aircraft is a powered parachute or a weight-shift-control aircraft; and

(2) The person has at least 100 hours of pilot-in-command time in the category and class of aircraft flown.

Subpart H—Flight Instructors

18. Revise the heading of subpart H of part 61 to read as set forth above.

§ 61.181 [Amended]

19. Amend § 61.181 by removing the words “(except for flight instructor certificates with a sport pilot rating).”

20. Amend § 61.183 by revising paragraphs (c) and (j) to read as follows:

§ 61.183 Eligibility requirements.

* * * * *

(c) Hold—

(1) Either a commercial pilot certificate or airline transport pilot certificate with:

(i) An aircraft category and class rating that is appropriate to the flight instructor rating sought; and

(ii) An instrument rating, or privileges on that person's pilot certificate that are appropriate to the flight instructor rating sought, if applying for—

(A) A flight instructor certificate with an airplane category and single-engine class rating;

(B) A flight instructor certificate with an airplane category and multiengine class rating;

(C) A flight instructor certificate with a powered-lift rating; or

(D) A flight instructor certificate with an instrument rating; or

(2) At least a sport pilot certificate with a category and class rating appropriate to the flight instructor rating sought, if seeking a flight instructor certificate with a sport pilot rating.

* * * * *

(j) Log—

(1) At least 15 hours as pilot in command in the category and class of aircraft that is appropriate to the flight instructor rating sought, if applying for a flight instructor certificate with other than a sport pilot rating; or

(2) The aeronautical experience specified in § 61.186, if applying for a flight instructor certificate with a sport pilot rating; and

* * * * *

21. Amend § 61.185 by revising paragraph (a)(2) to read as follows:

§ 61.185 Aeronautical knowledge.

(a) * * *

(2) The aeronautical knowledge areas for—

(i) A recreational, private, and commercial pilot certificate applicable to the aircraft category for which flight instructor privileges are sought, if applying for a flight instructor certificate with other than a sport pilot rating; or

(ii) A sport pilot certificate applicable to the aircraft category for which flight instructor privileges are sought, if applying for a flight instructor certificate with a sport pilot rating; and

* * * * *

22. Add § 61.186 to read as follows:

§ 61.186 Aeronautical experience requirements for persons applying for a flight instructor certificate with a sport pilot rating.

A person applying for a flight instructor certificate with a sport pilot rating must meet the aeronautical experience requirements specified in the following table:

A person applying for a flight instructor certificate with a sport pilot rating for . . . | Must log at least . . . | Which must include at least . . .
(a) Airplane category with a single-engine class rating, | (1) 150 hours of flight time as a pilot, | (i) 100 hours of flight time as pilot in command in a powered aircraft,
|  | (ii) 50 hours of flight time in a single-engine airplane,
|  | (iii) 25 hours of cross-country flight time,
|  | (iv) 10 hours of cross-country flight time in a single-engine airplane, and
|  | (v) 15 hours of flight time as pilot in command in a single-engine airplane that is a light-sport aircraft.
| (2) [Reserved]. |
(b) Glider category rating, | (1) 25 hours of flight time as pilot in command of a glider, 100 flights in a glider, and 15 flights as pilot in command in a glider that is a light-sport aircraft; or
| (2) 100 hours in heavier-than-air aircraft, 20 flights in a glider, and 15 flights as pilot in command in a glider that is a light-sport aircraft. |
(c) Rotorcraft category with a gyroplane class rating, | (1) 125 hours of flight time as a pilot, | (i) 100 hours of flight time as pilot in command in a powered aircraft,
|  | (ii) 50 hours of flight time in a gyroplane,
|  | (iii) 10 hours of cross-country flight time,
|  | (iv) 3 hours of cross-country flight time in a gyroplane, and
|  | (v) 15 hours of flight time as pilot in command in a gyroplane that is a light-sport aircraft.
| (2) [Reserved]. |
(d) Lighter-than-air category with an airship class rating, | (1) 100 hours of flight time as a pilot, | (i) 40 hours of flight time in an airship, (ii) 20 hours of flight time as pilot in command in an airship,
|  | (iii) 10 hours of cross-country flight time,
|  | (iv) 5 hours of cross-country flight time in an airship, and
|  | (v) 15 hours of flight time as pilot in command in an airship that is a light-sport aircraft.
| (2) [Reserved]. |
(e) Lighter-than-air category with a balloon class rating, | (1) 35 hours of flight time as pilot in command, | (i) 20 hours of flight time in a balloon, (ii) 10 flights in a balloon, and
|  | (iii) 5 flights as pilot in command in a balloon that is a light-sport aircraft.
| (2) [Reserved]. |
(f) Weight-shift-control aircraft category rating, | (1) 150 hours of flight time as a pilot, | (i) 100 hours of flight time as a pilot in command in a powered aircraft,
|  | (ii) 50 hours of flight time in a weight-shift-control aircraft,
|  | (iii) 25 hours of cross-country flight time,
|  | (iv) 10 hours of cross-country flight time in a weight-shift-control aircraft, and
|  | (v) 15 hours of flight time as a pilot in command in a weight-shift-control aircraft that is a light-sport aircraft.
| (2) [Reserved]. |
(g) Powered-parachute category rating, | (1) 100 hours of flight time as a pilot, | (i) 75 hours of flight time as a pilot in command in a powered aircraft,
|  | (ii) 50 hours of flight time in a powered parachute,
|  | (iii) 15 hours of cross-country flight time,
|  | (iv) 5 hours of cross-country flight time in a powered parachute, and
|  | (v) 15 hours of flight time as pilot in command in a powered parachute that is a light-sport aircraft.
| (2) [Reserved]. |

23. Amend § 61.187 by adding paragraph (b)(8) to read as follows:

§ 61.187 Flight proficiency.

* * * * *

(b) * * *

(8) For a sport pilot rating with the appropriate aircraft category and class rating:

(i) Fundamentals of instructing;

(ii) Technical subject areas;

(iii) Preflight preparation;

(iv) Preflight lesson on a maneuver to be performed in flight;

(v) Preflight procedures;

(vi) Airport, seaplane base, and gliderport operations, as applicable;

(vii) Takeoffs (or launches), landings, and go-arounds;

(viii) Fundamentals of flight;

(ix) Performance maneuvers, and for gliders, performance speeds;

(x) Ground reference maneuvers (except for gliders and lighter-than-air);

(xi) Soaring techniques;

(xii) Slow flight (not applicable to lighter-than-air and powered parachutes)

(xiii) Stalls (not applicable to lighter-than-air, powered parachutes, and gyroplanes);

(xiv) Spins (applicable to airplanes and gliders);

(xv) Emergency operations;

(xvi) Tumble entry and avoidance techniques (applicable to weight-shift-control aircraft); and

(xvii) Post-flight procedures.

* * * * *

24. Amend § 61.191 by adding paragraph (c) to read as follows:

§ 61.191 Additional flight instructor ratings.

* * * * *

(c) A person who applies for an additional sport pilot rating on a flight instructor certificate is not required to pass the knowledge test on the areas listed in § 61.185 (a)(2)(ii).

25. Revise § 61.193 to read as follows:

61.193 Flight instructor privileges.

(a) A person who holds a flight instructor certificate with other than a sport pilot rating is authorized, within the limits of that person's flight instructor certificate and ratings, to provide training and endorsements that are required for and relate to—

(1) A student pilot certificate;

(2) A pilot certificate;

(3) A flight instructor certificate;

(4) A ground instructor certificate;

(5) An aircraft rating;

(6) A flight review, an operating privilege, or recency-of-experience requirement of this part;

(7) A practical test; and

(8) A knowledge test.

(b) A person who holds a flight instructor certificate with a sport pilot rating is authorized, within the limits of that person's flight instructor certificate and rating, to provide training and endorsements that are required for, and relate to—

(1) A student pilot certificate seeking a sport pilot certificate;

(2) A sport pilot certificate;

(3) A flight instructor certificate with a sport pilot rating;

(4) An aircraft rating for a sport pilot;

(5) A flight review;

(6) An operating privilege or recency-of-experience requirement of this part for a person exercising the privileges of a sport pilot;

(7) A practical test for a sport pilot certificate, a private pilot certificate with a powered parachute or weight-shift-control aircraft rating, or a flight instructor certificate with a sport pilot rating; and

(8) A knowledge test for a sport pilot certificate, a private pilot certificate with a powered parachute or weight-shift-control aircraft rating, or a flight instructor certificate with a sport pilot rating.

26. Amend § 61.195 by adding paragraphs (d)(7) and (k) to read as follows:

§ 61.195 Flight instructor limitations and qualifications.

* * * * *

(d) * * *

(7) Student pilot's certificate and logbook of a student pilot seeking a sport pilot certificate for solo flight in Class B, C and D airspace areas, at an airport within Class B, C, or D airspace and to, from, through or on an airport having an operational control tower, unless that flight instructor has—

(i) Given that student ground and flight training in that airspace or at that airport; and

(ii) Determined that the student is proficient to operate the aircraft safely.

* * * * *

(k) Additional limitations for a flight instructor with a sport pilot rating. A flight instructor with a sport pilot rating may only provide flight instruction in a light-sport aircraft and must have—

(1) At least a private pilot certificate with the applicable category and class ratings at any certificate level to provide training for a private pilot certificate with a powered parachute or weight-shift-control aircraft rating;

(2) The endorsement specified in § 61.324 or be otherwise authorized to operate a powered parachute with an elliptical wing to provide training in a powered parachute with an elliptical wing;

(3) The endorsement specified in § 61.327(a) or be otherwise authorized to operate a light-sport aircraft with a VH greater than 87 knots CAS to provide training in a light-sport aircraft with a VH greater than 87 knots CAS;

(4) The endorsement specified in § 61.327(b) or be otherwise authorized to operate a light-sport aircraft with a VH less than or equal to 87 knots CAS to provide training in a light-sport aircraft with a VH less than or equal to 87 knots CAS; and

(5) The endorsement specified in § 61.325 or be otherwise authorized to conduct operations in Class B, C, and D airspace, at an airport located in Class B, C, or D airspace, and to, from, through, or at an airport having an operational control tower to provide training in this airspace and at these airports.

§ 61.301 [Amended]

27. Amend § 61.301 by removing paragraph (a)(7).

28. Amend § 61.303 by:

a. Removing the words “light sport” adding the words “light-sport” in their place in paragraphs (a)(1)(ii)(A) introductory text and (a)(2)(ii)(A) introductory text; and

b. Revising the introductory text of paragraphs (a)(1)(i)(A), (a)(1)(ii), (a)(1)(iii)(A), (a)(2)(i)(A), (a)(2)(ii), (a)(2)(iii)(A), (a)(3)(i)(A), (a)(3)(ii)(A), and (a)(3)(iii)(A), and paragraph (a)(3)(ii)(A)(1) to read as follows:

§ 61.303 If I want to operate a light-sport aircraft, what operating limits and endorsement requirements in this subpart must I comply with?

(a) * * *

If you hold | And you hold | Then you may operate | And
(1) * * * | (i) * * * | (A) Any light-sport aircraft for which you hold the appropriate category and class rating, | (1) * * *
| (ii) At least a recreational pilot certificate with a category and class rating at that certificate level or higher, | (A) * * * | (1) * * *
| (iii) * * * | (A) That light-sport aircraft, only if you hold the appropriate category and class rating, | (1) * * *
(2) * * * | (i) * * * | (A) Any light-sport aircraft for which you hold the appropriate category and class rating, | (1) * * *
| (ii) At least a recreational pilot certificate with a category and class rating at that certificate level or higher, | (A) * * * | (1) * * *
| (iii) * * * | (A) That light-sport aircraft, only if you hold the appropriate category and class ratings, | (1) * * *
(3) * * * | (i) * * * | (A) Any light-sport glider or balloon for which you hold the appropriate category and class rating, | (1) * * *
| (ii) * * * | (A) Any light-sport glider or balloon in that category and class, | (1) You do not have to hold any of the endorsements required by this subpart, nor do you have to balloon in comply with the limitations in § 61.315.
| (iii) * * * | (A) Any light-sport glider or balloon, only if you hold the glider category or balloon class rating, | (1) * * *

* * * * *

§ 61.309 [Amended]

29. Amend § 61.309 introductory text by removing the words “Except as specified in § 61.329, to” and adding the word “To” to the beginning of the sentence.

30. Amend § 61.311 by revising the introductory text to read as follows:

§ 61.311 What flight proficiency requirements must I meet to apply for a sport pilot certificate?

To apply for a sport pilot certificate you must receive and log ground and flight training from an authorized instructor on the following areas of operation, as appropriate, for airplane single-engine land or sea, glider, gyroplane, airship, balloon, powered parachute land or sea, and weight-shift-control aircraft land or sea ratings:

* * * * *

31. Amend § 61.313 by:

a. Removing the words “Except as specified in § 61.329, use” from the introductory text and adding the word “Use” to the beginning of the sentence;

b. Removing the numeral “3” and adding in its place the numeral “2” in paragraphs (a)(1)(iv), (d)(1)(iv), (e)(1)(iv), (f)(1)(ii), (g)(1)(v) and (h)(1)(iv);

c. Revising the introductory text of paragraphs (a) through (h);

d. Revising paragraph (g)(1) introductory text; and

e. Revising paragraphs (b)(1)(ii) and (c)(1)(ii).

The revisions read as follows:

§ 61.313 What aeronautical experience must I have to apply for a sport pilot certificate?

* * * * *

If you are applying for a sport pilot certificate with . . . | Then you must log at least . . . | Which must include at least . . .
(a) Airplane category and single-engine land or sea class ratings, | (1) * * * | * * *
(b) Glider category rating, and you have not logged at least 20 hours of flight time in heavier-than-air aircraft, | (1) * * * | * * * (ii) at least 3 training flights on those areas of operation specified in § 61.311 preparing for the practical test within 60 days before the date of the test.
(c) Glider category rating, and you have logged at least 20 hours of flight time in heavier-than-air craft, | (1) * * * | * * * (ii) at least 3 training flights on those areas of operation specified in § 61.311 preparing for the practical test within 60 days before the date of the test.
(d) Rotorcraft category and gyroplane class ratings, | (1) * * * | * * *
(e) Lighter-than-air category and airship class ratings, | (1) * * * | * * *
(f) Lighter-than-air category and balloon class ratings, | (1) * * * | * * *
(g) Powered parachute category land or sea class ratings, | (1) 12 hours of flight time in a powered parachute, including 10 hours of flight training in a powered parachute from an authorized instructor, and at least 2 hours of solo flight time in a powered parachute on the areas of operation listed in § 61.311, | * * *
(h) Weight-shift-control aircraft category land or sea class ratings, | (1) * * * | * * *

32. Amend § 61.315 by revising paragraphs (c)(11), (c)(14), and (c)(16) and adding paragraph (c)(20) to read as follows:

§ 61.315 What are the privileges and limits of my sport pilot certificate?

* * * * *

(c) * * *

(11) At an altitude of more than 10,000 feet MSL, or 2,000 feet AGL, whichever is higher.

* * * * *

(14) If the aircraft has:

(i) A VH greater than 87 knots CAS, unless you have met the requirements of § 61.327(a).

(ii) A VH less than or equal to 87 knots CAS, unless you have met the requirements of § 61.327(b) or have logged pilot-in-command time in an aircraft with a VH less than or equal to 87 knots CAS before (insert effective date of final rule).

* * * * *

(16) Contrary to any limit on your pilot certificate or airman medical certificate, or any other limit or endorsement from an authorized instructor.

* * * * *

(20) That is a powered parachute with an elliptical wing, unless you have met the requirements specified in § 61.324.

33. Revise § 61.317 to read as follows:

§ 61.317 Is my sport pilot certificate issued with aircraft category and class ratings?

Your sport pilot certificate will list aircraft category and class ratings. When you successfully pass the practical test for a sport pilot certificate, regardless of the light-sport aircraft rating you seek, the FAA will issue a sport pilot certificate with the appropriate aircraft category and class rating.

§ 61.319 [Removed and reserved]

34. Remove and reserve § 61.319.

§ 61.321 [Removed and reserved]

35. Remove and reserve § 61.321.

§ 61.323 [Removed and reserved]

36. Remove and reserve § 61.323.

37. Add § 61.324 to read as follows:

§ 61.324 How do I obtain privileges to operate a powered parachute with an elliptical wing?

(a) Except as specified in paragraph (b) of this section, if you hold a sport pilot certificate with a powered parachute rating and you seek to operate a powered parachute with an elliptical wing you must—

(1) Receive and log ground and flight training from an authorized instructor in a powered parachute with an elliptical wing; and

(2) Receive a logbook endorsement from the authorized instructor who provided you with the training specified in paragraph (a) of this section certifying that you are proficient to operate a powered parachute with an elliptical wing.

(b) The training and endorsements required by paragraph (a) of this section are not required if you have logged flight time as pilot in command of a powered parachute with an elliptical wing prior to [EFFECTIVE DATE OF THE FINAL RULE].

38. Revise § 61.327 to read as follows:

§ 61.327 Are there specific endorsement requirements to operate light-sport aircraft based on VH?

(a) If you hold a sport pilot certificate and you seek to operate a light-sport aircraft that has a VH greater than 87 knots CAS you must—

(1) Receive and log ground and flight training from an authorized instructor in an aircraft that has a VH greater than 87 knots CAS; and

(2) Receive a logbook endorsement from the authorized instructor who provided the training specified in paragraph (a)(1) of this section certifying that you are proficient in the operation of light-sport aircraft with a VH greater than 87 knots CAS.

(b) Except as specified in paragraph (d) of this section, if you hold a sport pilot certificate and you seek to operate a light-sport aircraft that has a VH less than or equal to 87 knots CAS you must—

(1) Receive and log ground and flight training from an authorized instructor in an aircraft that has a VH less than or equal to 87 knots CAS; and

(2) Receive a logbook endorsement from the authorized instructor who provided the training specified in paragraph (b)(1) of this section certifying that you are proficient in the operation of light-sport aircraft with a VH less than or equal to 87 knots CAS.

(c) If you hold a sport pilot certificate and you seek to operate a light-sport aircraft that is an airplane and has a VH greater than 87 knots CAS after [ONE YEAR AFTER THE EFFECTIVE DATE OF THE FINAL RULE], you must receive and log 1 hour of flight training in a single-engine airplane that has a VH greater than 87 knots CAS on the control and maneuvering of an airplane solely by reference to instruments, including straight and level flight, climbs and descents, turns to a heading, and recovery from unusual flight attitudes.

(d) The training and endorsements required by paragraph (b) of this section are not required if you have logged flight time as pilot in command of an aircraft with a VH less than or equal to 87 knots CAS prior to [EFFECTIVE DATE OF THE FINAL RULE].

§ 61.329 [Removed]

39. Remove § 61.329.

§§ 61.401 through 61.431 (Subpart K) [Removed]

40. Remove subpart K consisting of §§ 61.401 through 61.431.

PART 91—GENERAL OPERATING AND FLIGHT RULES

41. The authority citation for part 91 continues to read as follows:

Authority: 49 U.S.C. 106(g), 1155, 40103, 40113, 40120, 44101, 44111, 44701, 44704, 44709, 44711, 44712, 44715, 44716, 44717, 44722, 46306, 46315, 46316, 46504, 46506-46507, 47122, 47508, 47528-47531, articles 12 and 29 of the Convention on International Civil Aviation (61 Stat. 1180).

42. Amend § 91.119 by revising paragraph (d) to read as follows:

§ 91.119 Minimum safe altitudes: General.

* * * * *

(d) Helicopters, powered parachutes, and weight-shift-control aircraft. If the operation is conducted without hazard to persons or property on the surface—

(1) A helicopter may be operated at less than the minimums prescribed in paragraph (b) or (c) of this section, provided each person operating the helicopter complies with any routes or altitudes specifically prescribed for helicopters by the FAA; and

(2) A powered parachute or weight-shift-control aircraft may be operated at less than the minimums prescribed in paragraph (c) of this section.

43. Amend § 91.417 by revising paragraph (a)(2)(v) to read as follows:

§ 91.417 Maintenance records.

(a) * * *

(2) * * *

(v) The current status of applicable airworthiness directives (AD) and safety directives including, for each, the method of compliance, the AD or safety directive number and revision date. If the AD or safety directive involves recurring action, the time and date when the next action is required.

* * * * *

PART 141—PILOT SCHOOLS

44. The authority citation for part 141 continues to read as follows:

Authority: 49 U.S.C. 106(g), 40113, 44701-44703, 44707, 44709, 44711, 45102-45103, 45301-45302.

45. Amend § 141.39 by revising paragraph (b) to read as follows:

§ 141.39 Aircraft.

* * * * *

(b) Each aircraft must be certificated with a standard airworthiness certificate, a primary airworthiness certificate, or a special airworthiness certificate in the light-sport category unless the Administrator determines that due to the nature of the approved course, an aircraft not having a standard airworthiness certificate, a primary airworthiness certificate, or a special airworthiness certificate in the light-sport category may be used;

* * * * *

Issued in Washington, DC on April 9, 2008.
James J. Ballough,
Director, Flight Standards Service.

[FR Doc. 08-1127 Filed 4-11-08; 8:45am]

BILLING CODE 4910-13-P